DEPARTMENT OF THE INTERIOR

Minerals Management Service

30 CFR Part 250

RIN 1010-AC47

Oil and Gas and Sulphur Operations in the Outer Continental Shelf—Plans and Information

AGENCY: Minerals Management Service (MMS), Interior.

ACTION: Notice of proposed rulemaking.

SUMMARY: This proposed rule would reorganize and update the requirements and processes for submitting various plans and information for MMS review and approval before a lessee or an operator may explore, develop, or produce oil and gas and sulphur in the Outer Continental Shelf (OCS).

DATES: We will consider all comments received by August 15, 2002. We will begin reviewing comments then and may not fully consider comments we receive after August 15, 2002.

ADDRESSES: If you wish to comment, you may mail or hand-carry comments (three copies) to the Department of the Interior; Minerals Management Service; Mail Stop 4024; 381 Elden Street; Herndon, Virginia 20170-4817; Attention: Rules Processing Team (RPT). If you wish to e-mail comments, the e-mail address is: rules.comments@MMS.gov. Reference Plans and Information in your e-mail subject line. Include your name and return address in your e-mail message and mark your message for return receipt.

Mail or hand-carry comments with respect to the information collection burden of the proposed rule to the Office of Information and Regulatory Affairs; Office of Management and Budget; Attention: Desk Officer for the Department of the Interior (OMB control number 1010-NEW); 725 17th Street, NW., Washington, DC 20503.

FOR FURTHER INFORMATION CONTACT: Kumkum Ray, Engineering and Operations Division, (703) 787-1600.

SUPPLEMENTARY INFORMATION: The current regulations at 30 CFR part 250, subpart B, are structured into five broad sections: General Requirements, Preliminary Activities, Well Location and Spacing, Exploration Plan, and Development and Production Plan. This rule would reorganize and clarify the requirements pertaining to Exploration Plans (EP), Development and Production Plans (DPP), and Development Operations Coordination Documents (DOCD). It also would add sections to describe Deepwater Operations Plans (DWOP) and Conservation Information Documents (CID). The rule would provide more descriptive headings under which a large number of separate sections would state the current requirements clearly and concisely and in a more logical order. In writing this rule, we focused on:

• Clarifying and updating the review process;

• Providing a concise list of the contents of EP, DPP, and DOCD (plan) submissions; and

• Detailing the accompanying information that operators must submit to support their plans.

Authorship of the Rule

The rule was written by the MMS Subpart B Team. Members of the team are Allen Adams (Office of Environmental Evaluation/Pacific OCS Region), Maureen Bornholdt (Headquarters/Environmental Division), Phyllis Casey (Operations/Alaska OCS Region), James Grant (Operations/Pacific OCS Region), Bonnie LaBorde Johnson (Leasing and Environment/Gulf of Mexico (GOM) OCS Region), and Kent Stauffer (Field Operations/GOM OCS Region), with Kumkum Ray (Headquarters/Engineering and Operations Division) as team leader. David Zinzer (Headquarters/Resource Evaluation Division) contributed on geologic and geophysical (G&G) issues.

We wrote this proposed rule in a plain-language format. We have tried to set out these requirements in a straightforward and uncomplicated way. The plain-language format uses the term “you,” (or “I” in questions), which means the lessee, assignee of a lessee, operating rights holder, or a person acting on behalf of any of those persons. (See 30 CFR § 250.105.) We emphasize that “you” are responsible for ensuring that all requirements are met. We encourage your comments on our use of the plain-language format in this rule as well as future rulemaking.

Notice to Lessees and Operators (NTL) for the GOM OCS Region

After the proposed rule is published, we will post a companion draft NTL for the GOM OCS Region on our website at www.mms.gov. This NTL will further interpret the requirements in the proposed rule regarding the information you must submit for MMS determinations, analyses, and approvals of EPs and DOCDs as they would apply specifically to leases and units in the GOM OCS Region. It will also explain how the GOM OCS Region would implement proposed § 250.201(c) with respect to limiting submission of information that is not needed in particular cases.

Background

On April 1, 1988, we published final regulations (30 CFR part 250) that govern oil, gas, and sulphur exploration, development, and production requirements for operations on the OCS. The regulations were divided into subparts A through P. Each subpart was further divided into sections. Recently, we began rewriting the regulations to improve clarity, and the need for additional and shorter sections became acute. Therefore, on May 29, 1998 (63 FR 29487), we published a final rule redesignating the sections of 30 CFR part 250 “Oil and Gas and Sulphur Operations in the Outer Continental Shelf.” That rulemaking action allotted 100 sections to each subpart and provided the flexibility to better organize our regulations.

As further background, MMS has issued NTLs and Letters to Lessees and Operators (LTLs) to explain and clarify its regulations. We no longer issue LTLs, and we issue NTLs only when necessary. We rescind NTLs that have served their short-term purpose and now regularly review our long-term NTLs—both regional and national—to keep them up-to-date and to ensure their accuracy and applicability.

MMS must comply with the National Environmental Policy Act (NEPA), its implementing regulations issued by the Council on Environmental Quality at 40 CFR parts 1500 through 1508, and policies of the Department of the Interior (DOI) and MMS. According to NEPA requirements, MMS must prepare an Environmental Assessment (EA) in connection with its review of plans for activities on the OCS. The contents of plans must be sufficient to support a sound analysis of potential environmental impacts that may result from the proposed activity. The appropriate MMS Region prepares these analyses for every plan received.

However, the NEPA regulations (40 CFR 1508.4) do allow agencies to exclude categories of actions from the preparation of an EA or an Environmental Impact Statement (EIS) when agency procedures have demonstrated these actions—individually or cumulatively—do not have a significant effect on the environment.

MMS follows the procedures outlined in the DOI's Departmental Manual (516 DM 15) to categorically exclude (“CATEX”) routine OCS lease or unit plans in the Western and Central GOM Planning Areas unless certain exceptions are present. Some exceptions pertain to the nature of the proposed activity and others to the nature of potential environmental impacts that may result from the activity. When we process plans using a Categorical Exclusion Review (CER), we review the proposed activity and the potential environmental impacts at the proposed site. These do not require MMS to prepare an EA, and we limit the information that you are required to submit. We prepare an EA in our review of plans that meet the criteria of any of the specified exceptions to the CATEX criteria, and, in those cases, you are required to submit a full suite of information. As required by NEPA, if our EA concludes that significant impacts will result from the proposed activity, we will prepare an EIS.

Whether MMS reviews plans through the CER or EA process, we require that environmental impacts are avoided or diminished to an acceptable level through plan amendments and/or conditions we impose in the plan approval.

In addition to supporting the environmental analyses, MMS needs the information included in a plan to demonstrate that the proposed activity will not violate pertinent Federal laws intended to protect the marine, coastal, and human environment (Coastal Zone Management Act (CZMA), Clean Air Act, Endangered Species Act, Marine Mammal Protection Act, National Historic Preservation Act, etc.).

Proposed Changes to Subpart B Regulations

In rewriting subpart B, we incorporated many of the detailed procedures and processes that were addressed previously in LTLs and NTLs. Thus, although the proposed rule may appear to contain many changes from the text of the current 30 CFR part 250, subpart B, including expanded lists of data and information to be submitted, the rewritten regulations basically would reflect current requirements and ongoing practices as conveyed to operators via NTLs and former LTLs.

There are, however, some new or expanded areas. Following is a list of the major changes we are proposing in this rule:

(1) Definitions—250.200: We added definitions to explain certain terms used in the rule. Note that the terms “amendment,” “modification,” and “revised OCS plan” (revision) are not used synonymously in the rule and are used to distinguish certain types of changes that can be made to a pending or approved OCS plan. For ease of reference, we provided the definitions for “exploration,” “development,” and “production” verbatim from 30 CFR part 250, subpart A (§ 250.105).

(2) Conservation—§§ 250.203 and 250.204: We have added language to further clarify and emphasize conservation practices. This language will ensure the proper development of economically producible reservoirs according to sound conservation, engineering, and economic practices.

(3) Comprehensive Environmental Management Plan—§ 250.201(c)(3): The rule proposes to allow a lessee or operator to submit a comprehensive environmental management plan in lieu of repetitive submissions of the same environmental data and information for each lease or unit in the same/similar environment. Such plans are increasing in use and form part of the ongoing management process of many lessees/operators. We welcome your views on this concept and how it could be implemented to be effective.

(4) Electronic Filing—§ 250.206(c): The proposed regulations allow for electronic filing of EPs, DOCDs, DPPs, and their accompanying information to expedite their review.

(5) Ancillary Activities—§§ 250.207 to 250.210: With respect to those activities you conduct, without approval of an application or permit, to obtain information to ensure proper exploration or development of your lease or unit, the current regulations only address “preliminary” activities that are conducted prior to submitting an EP, DPP, or DOCD. We are not using the term “preliminary activities” in the proposed rule. Instead, we use the term “ancillary” activities, and the proposed rule covers ancillary activities that could be conducted “after,” as well as before, you submit an EP, DPP, or DOCD to MMS. We also added the terms “development geophysical activities” and “geophysical and geological explorations” to clarify certain types of ancillary activities.

(6) Written Notice—§ 250.208: The rule contains requirements on conducting certain on-lease G&G explorations or development geophysical activities that are ancillary activities. Lessees must give MMS a written notice before beginning any such ancillary activities, including those conducted after an OCS plan is approved. This is not a new requirement. Various NTLs describe this notice. The notice enables us to better ensure safe use and environmental protection of the OCS with respect to certain G&G activities. Notification also makes us aware of significant sets of valuable data that we could and should incorporate into MMS analyses and MMS-funded studies.

(7) Other Requirements Related to Notice of Certain Ancillary Activities—§§ 250.208(c) and 250.209: Along with the notice requirement, lessees and operators may be required to prepare and submit a report; retain certain data and information; and notify other users of the OCS before conducting ancillary activities.

(8) Detailing Accompanying Information—§§ 250.212 and 250.242: The rule details what information must accompany EPs, DPPs, and DOCDs. We make our decision to approve, require modification of, or disapprove OCS plans based on our evaluation of the accompanying information, as well as the plan contents. If MMS determines that a plan has inadequate accompanying information, or if it omits accompanying information, then we will not deem it submitted.

The proposed rule clarifies that our adequacy review will not begin until we receive both the OCS plan and its accompanying information. Our objective is efficiency—so that lessees and operators provide MMS with all required information for OCS Lands Act, NEPA, and CZMA purposes at the beginning of the process. These regulations and the related draft NTL notify industry “up front” of the information needed for expeditious review of an OCS plan, thereby reducing the need for additional filings and costly delays. This will benefit industry and MMS long-term, particularly in those cases when an EA is required.

(9) Detailing Cooling Water Intake Information—§§ 250.217 and 250.248: The rule contains new requirements for EPs, DPPs, and DOCDs, which briefly summarize information on cooling water intake structures and mitigation measures for reducing adverse environmental impacts and biofouling of intake structures.

(10) Environmental Impact Analysis (EIA)—§§ 250.227 and 250.261: Environmental information “reports” are currently required for CZMA and NEPA purposes and to determine compliance with other Federal laws. The rule replaces these environmental reports with a reference to applicable regulations at 15 CFR 930 for required CZMA information and an EIA for use in our NEPA analysis. The EIA information will aid but not replace MMS's NEPA evaluation.

(11) Change in Timeframes for Deemed-submitted Review—§§ 250.231 and 250.266: The rule increases the time MMS can take to determine if a plan is deemed submitted from 10 to 15 working days for EPs, and from 20 to 25 working days for DPPs and DOCDs. The OCS Lands Act requires MMS to make a decision on plans within 30 days after they are submitted. However, as noted above, if we determine during our review that information is missing or not adequate for us to make a decision, the plan will not be deemed to have been submitted. Allowing adequate time before the decisionmaking period starts to determine that the plan and accompanying information fulfill requirements and are sufficiently accurate, can avoid multiple delays later in the review process and is more efficient.

(12) Development Operations Coordination Document (DOCD)—§ 250.241: The proposed rule would treat DPPs and DOCDs the same way. DOCDs are submitted for the Western GOM only. Current regulations state that any information submitted in DOCDs under the provisions at § 250.204(d)(1) and (d)(2) “shall be considered a Development and Production Plan for the purpose of references in any law, regulation, lease provision, agreement, or other document referring to the preparation or submission of a plan.” Therefore, MMS proposes to deal with them together.

(13) Deepwater Operations Plans (DWOP)—§§ 250.288 to 295: We added several new sections pertaining to DWOPs. NTL 2000-N06 currently outlines the procedures for these plans. The DWOP provides us with information specific to floating production system and subsea equipment issues to demonstrate that such a project is being planned in an acceptable manner. The proposed rule incorporates the NTL procedures.

(14) Conservation Information Documents (CID)—§§ 250.296 to 299: We added a few sections pertaining to CIDs. NTL 2000-N05 currently outlines the procedures for these documents. We have added a statement to re-emphasize our commitment to conservation. The proposed rule incorporates the NTL procedures.

Derivation Table

The derivation table below shows where the proposed requirements come from in relation to the current sections.

Proposed new section and title | Current section
250.200 Definitions | New.
250.201 What plans and information must I submit before I conduct any activities on my lease or unit? | 250.200; 250.203(b)(21), (c), and (d); 250.204(b)(17), (c), and (e).
250.202 What criteria must the Exploration Plan (EP), Development and Production Plan (DPP), or Development Operations Coordination Document (DOCD) meet? | New.
250.203 Where can wells be located under an EP, DPP or DOCD? | 250.202(a).
250.204 How must I protect MMS' rights? | 250.202(b) and (c).
250.205 Are there special requirements if my well affects an adjacent property? | 250.202(b).
250.206 How do I submit the EP, DPP, or DOCD? | New.
250.207 What ancillary activities may I conduct? | 250.201.
250.208 If I conduct ancillary activities, what notices must I provide? | 250.201.
250.209 What is the MMS review process for the notice? | New.
250.210 If I conduct ancillary activities, what reporting and data/information retention requirements must I satisfy? | New.
250.211 What must the EP include? | 250.203(a).
250.212 What information must accompany the EP? | 250.203(b).
250.213 What general information must accompany the EP? | 250.203(b)(4), (6), and (20).
250.214 What geological and geophysical (G&G) information must accompany the EP? | 250.203(b).
250.215 What hydrogen sulfide (H2S) information must accompany the EP? | 250.203(b)(5).
250.216 What biological, physical, and socioeconomic information must accompany the EP? | 250.203(b)(10) through (b)(15).
250.217 What solid and liquid wastes and discharges information and cooling water intake information must accompany the EP? | 250.203(b)(9) New.
250.218 What air emissions information must accompany the EP? | 250.203(b)(19).
250.219 What oil and hazardous substance spills information must accompany the EP? | 250.203(b)(2).
250.220 If I propose activities in the Alaska OCS Region, what planning information must accompany the EP? | 250.203(a)(2).
250.221 What environmental monitoring information must accompany the EP? | 250.203(b)(16).
250.222 What lease stipulations information must accompany the EP? | 250.203(b)(3).
250.223 What mitigation measures information must accompany the EP? | New.
250.224 What information on the support vessels, offshore vehicles, and aircraft you will use must accompany the EP? | 250.203(b)(7).
250.225 What information on the onshore support facilities you will use must accompany the EP? | 250.203(b)(7) and (8).
250.226 What Coastal Zone Management Act (CZMA) certification must accompany the EP? | 250.203(b)(18).
250.227 What environmental impact analysis (EIA) information must accompany the EP? | 250.203(b)(17).
250.228 What administrative information must accompany the EP? | New.
250.231 After receiving the EP, what will MMS do? | 250.203(e).
250.232 What actions will be taken after the EP is deemed submitted? | 250.203(f), (g), and (h).
250.233 What decisions will MMS make on the EP and within what timeframe? | 250.203(i), (j), and (m).
250.234 How do I submit a modified EP or resubmit a disapproved EP, and when will MMS make a decision? | 250.203(k)(1) and (2).
250.235 If a State objects to the EP's coastal zone consistency certification, what can I do? | 250.203(l).
250.241 What must the DPP or DOCD include? | 250.204(a).
250.242 What information must accompany the DPP or DOCD? | 250.204(b).
250.243 What general information must accompany the DPP or DOCD? | 250.204(b)(7), (8)(ii), (15), and (16).
250.244 What geological and geophysical (G&G) information must accompany the DPP or DOCD? | 250.204(b)(1).
250.245 What hydrogen sulfide (H2S) information must accompany the DPP or DOCD? | 250.204(b)(2).
250.246 What mineral resource conservation information must accompany the DPP or DOCD? | 250.204(b)(5).
250.247 What biological, physical, and socioeconomic information must accompany the DPP or DOCD? | 250.204(b)(8)(v).
250.248 What solid and liquid wastes and discharges information and cooling water intakeinformation must accompany the DPP or DOCD? | 250.204(b)(8)(ii) and (b)(8)(iii) New.
250.249 What air emissions information must accompany the DPP or DOCD? | 250.204(b)(14).
250.250 What oil and hazardous substance spills information must accompany the DPP or DOCD? | 250.204(b)(3).
250.251 If I propose activities in the Alaska OCS Region, what planning information must accompany the DPP? | New.
250.252 What environmental monitoring information must accompany the DPP or DOCD? | 250.204(b)(8)(v)(H).
250.253 What lease stipulations information must accompany the DPP or DOCD? | 250.204(b)(4).
250.254 What mitigation measures information must accompany the DPP or DOCD? | New.
250.255 What decommissioning information must accompany the DPP or DOCD? | New.
250.256 What related facilities and operations information must accompany the DPP or DOCD? | 250.204(b)(8)(i).
250.257 What information on the support vessels, offshore vehicles, and aircraft you will use must accompany the DPP or DOCD? | 250.204(b)(8)(i) (C).
250.258 What information on the onshore support facilities you will use must accompany the DPP or DOCD? | 250.204(b)(8)(iv).
250.259 What sulphur operations information must accompany the DPP or DOCD? | 250.204(b)(9) and (10).
250.260 What Coastal Zone Management Act (CZMA) certification must accompany the DPP or DOCD? | 250.204(b)(13).
250.261 What environmental impact analysis (EIA) information must accompany the DPP or DOCD? | 250.204(b)(11).
250.262 What administrative information must accompany the DPP or DOCD? | New.
250.266 After receiving the DPP or DOCD, what will MMS do? | 250.204(f).
250.267 What actions will be taken after the DPP or DOCD is deemed submitted? | 250.204(g), (h), and (i).
250.268 How does MMS respond to recommendations? | 250.204(h).
250.269 How will MMS evaluate the environmental impacts of the DPP or DOCD? | 250.204(j) and (k).
250.270 What decisions will MMS make on the DPP or DOCD and within what timeframe? | 250.204(l), (m), and (p).
250.271 For what reasons will MMS disapprove the DPP or DOCD? | 250.204(l)(3).
250.272 If a State objects to the DPP's or DOCD's coastal zone consistency certification, what can I do? | 250.204(o)(2).
250.273 How do I submit a modified DPP or DOCD or resubmit a disapproved DPP or DOCD? | 250.204(n) and (o)(1).
250.274 When can I expect a decision from MMS on the modified or resubmitted DPP or DOCD? | 250.204(n).
250.280 How must I conduct activities under the approved EP, DPP, or DOCD? | 250.200; 250.203(q); 250.204(r) and (u).
250.281 What must I do to conduct activities under the approved EP, DPP, or DOCD? | 250.203(p); 250.204(t).
250.282 Do I have to conduct post-approval monitoring? | 250.203(o); 250.204(s)
250.283 When must I revise or supplement the approved EP, DPP, or DOCD? | New.
250.284 How will MMS require revisions to the approved EP, DPP, or DOCD? | 250.203(n)(1); 250.204(q)(1).
250.285 How do I submit revised and supplemental EPs, DPPs, or DOCDs? | 250.203(n)(2); 250.204(q)(2).
250.288 When must I submit a DWOP? | New.
250.289 Why do I need to submit a DWOP? | New.
250.290 What are the three parts of a DWOP? | New.
250.291 What must the Conceptual Part of a DWOP contain? | New.
250.292 What must the Preliminary Part of a DWOP contain? | New.
250.293 What must the Final Part of a DWOP contain? | New.
250.294 Where do I send the DWOP? | New.
250.295 When will the Regional Supervisor approve or disapprove the DWOP? | New.
250.296 When and why must I submit a CID? | New.
250.297 What information must a CID contain? | New.
250.298 How do I submit a CID? | New.
250.299 What decisions will MMS make on the CID? | New.

Procedural Matters

Public Comments Procedures

Our practice is to make comments, including names and home addresses of respondents, available for public review during regular business hours. Individual respondents may request that we withhold their home address from the rulemaking record, which we will honor to the extent allowable by law. There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Regulatory Planning and Review (Executive Order 12866)

This proposed rule is not a significant rule under Executive Order 12866. The Office of Management and Budget (OMB) has determined that it is not a significant rule and will not review the rule.

(1) This rule will not have an effect of $100 million or more on the economy. It will not adversely affect in a material way the economy, productivity, competition, jobs, the environment, public health or safety, or State, local, or tribal governments or communities. The major purpose for this proposed rule is the restructuring of the rule and clarifying the regulatory language. The restructuring and plain-language revisions will not result in any economic effects to small or large entities. Some of the proposed technical revisions will have a minor economic effect on lessees and operators with respect to the paperwork requirements. Although we estimate a total annual paperwork burden of 267,880 hours for all entities, this includes an actual increase of only 7,510 hours. Using a standard hourly cost of $50 to determine the paperwork burden, the increase would be $375,500. Based on 130 lessees/operators, the average increase is approximately $2,900 per entity from the current regulation. These costs will not cause an annual effect on the economy of $100 million.

(2) This rule will not create a serious inconsistency or otherwise interfere with an action taken or planned by another agency. The rule does not affect how lessees or operators interact with other agencies. Nor does this rule affect how MMS will interact with other agencies.

(3) This rule does not alter the budgetary effects or entitlements, grants, user fees, or loan programs or the rights or obligations of their recipients. The rule only addresses the requirements and processes for submitting various plans and documents for MMS review and approval before an operator may explore, develop, or produce oil and gas in the OCS.

(4) This rule does not raise novel legal or policy issues. The rule involves a new policy issue, that of requiring a written notice to MMS before beginning certain ancillary activities and any G&G activity under a plan, but the new policy decision is not “novel.” Under our regulations at 30 CFR part 251, MMS requires an application for a permit or the filing of a notice before allowing certain types of prelease G&G activities. The new requirement in the rule would enable MMS to better ensure safe use and environmental protection of the OCS. Notification would enable MMS to be aware of significant sets of valuable data that could and should be incorporated into MMS analyses and MMS-funded studies.

Regulatory Flexibility (RF) Act

The Department of the Interior certifies that this proposed rule will not have a significant economic effect on a substantial number of small entities under the RF Act (5 U.S.C. 601 et seq.). This rule applies to all lessees that operate on the OCS. Small lessees that operate under this rule would fall under the Small Business Administration's (SBA) North American Industry Classification System Codes 211111, Crude Petroleum and Natural Gas Extraction and 213111, Drilling Oil and Gas Wells. Under these codes, SBA considers all companies with fewer than 500 employees to be a small business. We estimate that of the 130 lessees that explore for and produce oil and gas on the OCS, approximately 90 are small businesses (70 percent). The primary economic effect of the revised subpart B on small businesses is the cost associated with information collection activities. The rule is a plain-language rewrite of 30 CFR part 250, subpart B, and contains virtually all the same reporting and recordkeeping requirements and attendant costs as the existing regulations. The changes in reporting requirements will not significantly increase the information collection hour burden on respondents—large or small. We estimate an annual increase of 7,510 hours in the paperwork burden from that imposed by the current regulations. Using a standard hourly cost of $50, this represents a cost burden increase of $375,500. The following is a breakdown of the paperwork cost burden associated with the new or expanded requirements:

• Respondents may be required to submit a report that summarizes and analyzes information obtained or derived from ancillary activities. We estimate the burden would only be to provide MMS copies of the company documentation and report and would be 1 hour or $50 per report. We estimate 20 reports annually, for a cost burden increase of $1,000.

• We estimate the overall average burden of a plan (EP, DPP, or DOCD) to increase by approximately 20 hours or $1,000 per plan. We estimate 260 EPs and 100 DPPs or DOCDs, for a total of 360 plans or a cost burden increase of $360,000.

• Respondents may be required to submit monitoring plans for approval before beginning work estimated to take 1 hour or $50 per plan. We estimate 30 plans annually, for a cost burden increase of $1,500.

• Respondents may be required to retain copies of all monitoring data obtained or derived from monitoring programs. The burden would only be to make the information available to MMS. We estimated a burden of 2 hours or $100 annually per respondent and the number of respondents to be 130. The estimated annual cost burden increase would be $13,000.

Adding the increased paperwork cost burden amounts, we have a total of $375,000. ($1,000 + $360,000 + $1,500 + $13,000 = $375,500.) Thus, based on 130 lessees/operators, the average increase is $2,900, for both large and small entities.

As discussed above, we do not believe that this rule will have a significant impact on the lessees who explore for and produce oil and gas on the OCS, including those that are classified as small businesses.

Your comments are important. The Small Business and Agriculture Regulatory Enforcement Ombudsman and 10 Regional Fairness Boards were established to receive comments from small businesses about Federal agency enforcement actions. The Ombudsman will annually evaluate the enforcement activities and rate each agency's responsiveness to small business. If you wish to comment on the enforcement actions of MMS, call toll-free (888) 734-3247.

Small Business Regulatory Enforcement Fairness Act (SBREFA)

This rule is not a major rule under (5 U.S.C. 804(2)) the SBREFA. This rule:

(a) Does not have an annual effect on the economy of $100 million or more. As described above, we estimate an annual increase of $2,900 per respondent. These costs will not cause an annual effect on the economy of $100 million.

(b) Will not cause a major increase in costs or prices for consumers, individual industries, Federal, State, or local government agencies, or geographic regions. The minor increase in cost will not change the way the oil and gas industry conducts business, nor will it affect regional oil and gas prices; therefore, it will not cause major cost increases for consumers, the oil and gas industry, or any Government agencies.

(c) Does not have significant adverse effects on competition, employment, investment, productivity, innovation, or ability of United States-based enterprises to compete with foreign-based enterprises. All lessees and drilling contractors, regardless of nationality, will have to comply with the requirements of this rule. So the rule will not affect competition, employment, investment, productivity, innovation, or the ability of United States-based enterprises to compete with foreign-based enterprises.

Paperwork Reduction Act (PRA) of 1995

The rule contains a collection of information that has been submitted to OMB for review and approval under § 3507(d) of the PRA. The title of the collection of information for this rule is “Proposed Rulemaking—30 CFR 250, Subpart B—Outer Continental Shelf Plans” (OMB control number 1010-NEW). Respondents include approximately 130 Federal OCS oil and gas or sulphur lessees and operators. The frequency of response is on occasion. Responses to this collection of information are mandatory. MMS will protect proprietary information according to the Freedom of Information Act and 30 CFR 250.196, “Data and information to be made available to the public.”

The information collection burden in the current subpart B regulations is approved by OMB under control number 1010-0049. The following details the proposed changes to the information collection requirements of the current regulations:

Section 250.208—Ancillary Activities Notice. Before beginning certain “ancillary” activities and any G&G activity approved under a plan, respondents must notify MMS. Under the current regulations, respondents notify MMS of certain types of “preliminary” activities. The rule revises the current procedures to include notifying MMS both before (preliminary) and after submitting a plan. The proposed rule also incorporates current procedures that respondents also may be required to notify other users of the OCS before conducting ancillary activities. However, the burden for these notifications is included under the current subpart B information collection approval. Therefore, the rule would not impose additional burden hours (no change).

Section 250.210(a)—Ancillary Activities Report. Respondents may be required to submit a report that summarizes and analyzes information obtained or derived from ancillary activities. Although this is a new reporting requirement, companies conducting ancillary activities prepare their own internal reports to document the results of these activities in the normal course of doing business. We estimate the burden would be only to provide MMS copies of the company documentation and report (plus 1 hour per report).

Section 250.210(b)—Ancillary Activities Recordkeeping. The rule incorporates records retention specified in current NTLs and former LTLs for all survey and study information and data obtained or derived from ancillary activities (preliminary activities), including information from previous leaseholders or unit operators. The burden for this recordkeeping activity has been approved under the current subpart B information collection approval. Therefore, the rule would not impose additional burden hours (no change).

Section 250.211 through 250.228 and sections 250.241 through 250.262—Contents of EPs, DPPs or DOCDs. In estimating the burden of the current regulations, we used 580 hours as the average paperwork burden for submitting a plan. That estimate included furnishing all of the information required in the plan, as well as the supporting detail (i.e., surveys, reports, studies, conservation information, forms used in the GOM OCS Region, etc.). The rule simply incorporates much of the information from current NTLs and former LTLs and imposes few new changes to the information submitted in the plans and accompanying information. The proposed GOM OCS Regional NTL includes one new form (Environmental Impact Analysis Matrix) for use in this region. The amended regulations should have minimal impact on the overall average burden of submitting a plan (plus 20 hours per plan).

Section 250.282—Monitoring Recordkeeping. Respondents may be required to retain copies of all monitoring data obtained or derived from monitoring programs. As with recordkeeping for ancillary activities, respondents would retain this information in the normal course of business. The burden would only be to make the information available to MMS, if requested (2 hours annually per respondent).

Section 250.282(a)—Monitoring Plans. Respondents may be required to submit monitoring plans for approval before beginning work (1 hour per plan).

Section 250.288 through section 250.299—DWOPs and CIDs. Although these are being incorporated into the regulations from current NTLs, the burden has been covered under the burden for current subpart B information collection approval. Therefore, the rule would not impose additional burden hours (no change).

We estimate the total annual reporting and recordkeeping “hour” burden for the rule will be 267,880 hours, of which only 7,510 hours is for the revised paperwork requirements. Following is a breakdown of the burden estimate.

Burden Breakdown
Citation 30 CFR 250 Subpart B | Reporting & recordkeeping | Hour burden per requirement | Average annual number | Annual burden hours
200 through 206 | General requirements for plans and information | Burden included with specific requirements below |  | 0
208 | Notify MMS and other users of the OCS before conducting ancillary activities | 10 | 20 notices | 200
210(a) [New] | Submit report summarizing & analyzing data/information obtained or derived from ancillary activities | 1 | 20 reports | 20
210(b) | Retain ancillary activities data/information | 2 | 130 record-keepers | 260
211 through 228 [Expanded] | Submit EP and accompanying information (including forms MMS-137, MMS 138, MMS-NEW used in GOM OCS Region) and provide notifications | 600 | 260 plans | 156,000
232(d); 234; 235(a); 281(d)(3); 283; 284; 285 | Submit amended, modified, revised, or supplemental EP, or resubmit disapproved EP | 80 | 180 changed plans | 14,400
241 through 262 [Expanded] | Submit DPP or DOCD and accompanying information (including forms MMS-137, MMS 139, MMS-NEW used in GOM OCS Region) and provide notifications | 600 | 100 plans | 60,000
267(d); 272(a); 273, 283; 284; 285 | Submit amended, modified, revised, or supplemental DPP or DOCD, or resubmit disapproved DPP or DOCD | 82 | 215 changed plans | 17,630
269(b) | Submit information on preliminary plans for leases or units in vicinity of proposed development and production activities | 2 | 10 responses | 20
281(a) | Submit various applications and permits | Burden included under appropriate subpart or form (1010-0044; 1010-0059; 1010-0058; 1010-0050). |  | 0
282 [New] | Retain monitoring data/information | 2 | 130 record-keepers | 260
282(a) [New] | Submit monitoring plans | 1 | 30 plans | 30
282(b) | Submit monitoring reports and data (including Form MMS-141 used in the GOM OCS Region) | 6 | 30 reports | 180
288 through 294 | Submit DWOP | 580 | 17 plans | 9,860
296 through 298 | Submit CID | 300 | 30 documents | 9,000
200 through 299 | General departure and alternative compliance requests not specifically covered elsewhere in subpart B regulations | 2 | 10 requests | 20
Total Burden | 1,182 | 267,880

Information Collection Comments: As part of our continuing effort to reduce paperwork and respondent burdens, MMS invites the public and other Federal agencies to comment on any aspect of the reporting and recordkeeping burden. You may submit your comments directly to the Office of Information and Regulatory Affairs, OMB. Please provide MMS with a copy of your comments so that we can summarize all written comments and address them in the final rule preamble. Refer to the Addresses section for mailing instructions. You may obtain a copy of the supporting statement for the new collection of information by contacting the Bureau's Information Collection Clearance Officer at (202) 208-7744.

The PRA provides that an agency may not conduct or sponsor a collection of information unless it displays a currently valid OMB control number. Until OMB approves the collection of information and assigns an OMB control number, you are not required to respond. OMB is required to make a decision concerning the collection of information of this proposed regulation between 30 to 60 days after publication of this document in the Federal Register. Therefore, a comment to OMB is best assured of having its full effect if OMB receives it by June 17, 2002. This does not affect the deadline for the public to comment to MMS on the proposed regulations.

a. MMS specifically solicits comments on the following questions:

(1) Is the proposed collection of information necessary for MMS to properly perform its functions, and will it be useful?

(2) Are the estimates of the burden hours of the proposed collection reasonable?

(3) Do you have any suggestions that would enhance the quality, clarity, or usefulness of the information to be collected?

(4) Is there a way to minimize the information collection burden on those who are to respond, including the use of appropriate automated electronic, mechanical, or other forms of information technology?

b. In addition, the PRA requires agencies to estimate the total annual reporting and recordkeeping “non-hour cost” burden resulting from the collection of information. We have not identified any, and we solicit your comments on this item. For reporting and recordkeeping only, your response should split the cost estimate into two components:

(1) Total capital and start-up cost component, and (2) annual operation, maintenance, and purchase of services component. Your estimates should consider the costs to generate, maintain, and disclose or provide the information. You should describe the methods you use to estimate major cost factors, including system and technology acquisition, expected useful life of capital equipment, discount rate(s), and the period over which you incur costs. Generally, your estimates should not include equipment or services purchased: before October 1, 1995; to comply with requirements not associated with the information collection; for reasons other than to provide information or keep records for the Government; or as part of customary and usual business or private practices.

Federalism (Executive Order 13132)

According to Executive Order 13132, this rule does not have Federalism implications. This rule does not substantially and directly affect the relationship between the Federal and State Governments. The rule applies to lessees that operate on the OCS. This rule does not impose costs on States or localities. Any costs will be the responsibility of the lessees/operators.

Takings Implication Assessment (Executive Order 12630)

According to Executive Order 12630, the rule does not have significant Takings implications. A Takings Implication Assessment is not required. The rule revises existing operation regulations. It does not prevent any lessee, operator, or drilling contractor from performing operations on the OCS, provided they follow the regulations. Thus, MMS did not need to prepare a Takings Implication Assessment according to Executive Order 12630, Governmental Actions and Interference with Constitutionally Protected Property Rights.

Energy Supply, Distribution, or Use (Executive Order 13211)

This rule is not a significant rule and is not subject to review by the Office of Management and Budget under Executive Order 12866. The rule does not have a significant effect on energy supply, distribution, or use because the major purpose for this rule is the restructuring of the rule and clarifying regulatory language. The rule addresses the requirements and processes for submitting various plans and documents for MMS approval before an operator may explore, develop, or produce oil and gas in the OCS and contains virtually all the same reporting and recordkeeping requirements and attendant costs as the existing regulations. There are some new or expanded areas of this rule that will only be incorporated into a final rule after a thorough analysis of public comments we receive.

Civil Justice Reform (Executive Order 12988)

According to Executive Order 12988, the Office of the Solicitor has determined that this rule does not unduly burden the judicial system and does meet the requirements of sections 3(a) and 3(b)(2) of the Order.

National Environmental Policy Act

This rule does not constitute a major Federal action significantly affecting the quality of the human environment. An environmental impact statement is not required.

Unfunded Mandates Reform Act (UMRA) of 1995 (Executive Order 12866)

This rule does not impose an unfunded mandate on State, local, or tribal governments or the private sector of more than $100 million per year. The rule does not have any Federal mandates nor does the rule have a significant or unique effect on State, local, or tribal governments or the private sector. A statement containing the information required by the UMRA (2 U.S.C. 1531 et seq.) is not required.

Clarity of This Regulation

Executive Order 12866 requires each agency to write regulations that are easy to understand. We invite your comments on how to make this rule easier to understand, including answers to questions such as the following:

(1) Are the requirements in the rule clearly stated?

(2) Does the rule contain technical language or jargon that interfere with its clarity?

(3) Does the format of the rule (grouping and order of sections, use of headings, paragraphing, etc.) aid or reduce its clarity?

(4) Would the rule be easier to understand if it were divided into more (but shorter) sections?

(5) Is the description of the rule in the Supplementary Information section of this preamble helpful in understanding the rule? What else can we do to make the rule easier to understand?

Send a copy of any comments that concern how we could make this rule easier to understand to: Office of Regulatory Affairs, Department of the Interior, Room 7229, 1849 C Street, NW., Washington, DC 20240. You may also e-mail the comments to this address: Exsec@ios.doi.gov

List of Subjects in 30 CFR Part 250

Environmental impact statements, Environmental protection, Government contracts, Incorporation by reference, Investigations, Mineral royalties, Oil and gas development and production, Oil and gas exploration, Oil and gas reserves, Outer continental shelf, Penalties, Pipelines, Public lands—mineral resources, Public lands—rights-of-way, Reporting and recordkeeping requirements, Sulphur development and production, Sulphur exploration, Surety bonds.

Dated: April 23, 2002.
Rebecca W. Watson,
Assistant Secretary, Land and Minerals Management.

For reasons stated in the preamble, the Minerals Management Service (MMS) proposes to amend 30 CFR part 250 as follows:

PART 250—OIL AND GAS AND SULPHUR OPERATIONS IN THE OUTER CONTINENTAL SHELF

1. The authority citation for part 250 continues to read as follows:

Authority: 43 U.S.C. 1331 et seq.

2. Subpart B and its title are revised to read as follows:

Subpart B—Plans and Information
General Information
Sec.
250.200 Definitions.
250.201 What plans and information must I submit before I conduct any activities on my lease or unit?
250.202 What criteria must the Exploration Plan (EP), Development and Production Plan (DPP), or Development Operations Coordination Document (DOCD) meet?
250.203 Where can wells be located under an EP, DPP or DOCD?
250.204 How must I protect MMS' rights?
250.205 Are there special requirements if my well affects an adjacent property?
250.206 How do I submit the EP, DPP, or DOCD?
Ancillary Activities
250.207 What ancillary activities may I conduct?
250.208 If I conduct ancillary activities, what notices must I provide?
250.209 What is the MMS review process for the notice?
250.210 If I conduct ancillary activities, what reporting and data/information retention requirements must I satisfy?
Contents of Exploration Plans (EP)
250.211 What must the EP include?
250.212 What information must accompany the EP?
250.213 What general information must accompany the EP?
250.214 What geological and geophysical (G&G) information must accompany the EP?
250.215 What hydrogen sulfide (H2S) information must accompany the EP?
250.216 What biological, physical, and socioeconomic information must accompany the EP?
250.217 What solid and liquid wastes and discharges information and cooling water intake information must accompany the EP?
250.218 What air emissions information must accompany the EP?
250.219 What oil and hazardous substance spills information must accompany the EP?
250.220 If I propose activities in the Alaska OCS Region, what planning information must accompany the EP?
250.221 What environmental monitoring information must accompany the EP?
250.222 What lease stipulations information must accompany the EP?
250.223 What mitigation measures information must accompany the EP?
250.224 What information on the support vessels, offshore vehicles, and aircraft you will use must accompany the EP?
250.225 What information on the onshore support facilities you will use must accompany the EP?
250.226 What Coastal Zone Management Act (CZMA) certification must accompany the EP?
250.227 What environmental impact analysis (EIA) information must accompany the EP?
250.228 What administrative information must accompany the EP?
Review and Decision Process for the EP
250.231 After receiving the EP, what will MMS do?
250.232 What actions will be taken after the EP is deemed submitted?
250.233 What decisions will MMS make on the EP and within what timeframe?
250.234 How do I submit a modified EP or resubmit a disapproved EP, and when will MMS make a decision?
250.235 If a State objects to the EP's coastal zone consistency certification, what can I do?
Contents of Development and Production Plans (DPP) and Development Operations Coordination Documents (DOCD)
250.241 What must the DPP or DOCD include?
250.242 What information must accompany the DPP or DOCD?
250.243 What general information must accompany the DPP or DOCD?
250.244 What geological and geophysical (G&G) information must accompany the DPP or DOCD?
250.245 What hydrogen sulfide (H2S) information must accompany the DPP or DOCD?
250.246 What mineral resource conservation information must accompany the DPP or DOCD?
250.247 What biological, physical, and socioeconomic information must accompany the DPP or DOCD?
250.248 What solid and liquid wastes and discharges information and cooling water intake information must accompany the DPP or DOCD?
250.249 What air emissions information must accompany the DPP or DOCD?
250.250 What oil and hazardous substance spills information must accompany the DPP or DOCD?
250.251 If I propose activities in the Alaska OCS Region, what planning information must accompany the DPP?
250.252 What environmental monitoring information must accompany the DPP or DOCD?
250.253 What lease stipulations information must accompany the DPP or DOCD?
250.254 What mitigation measures information must accompany the DPP or DOCD?
250.255 What decommissioning information must accompany the DPP or DOCD?
250.256 What related facilities and operations information must accompany the DPP or DOCD?
250.257 What information on the support vessels, offshore vehicles, and aircraft you will use must accompany the DPP or DOCD?
250.258 What information on the onshore support facilities you will use must accompany the DPP or DOCD?
250.259 What sulphur operations information must accompany the DPP or DOCD?
250.260 What Coastal Zone Management Act (CZMA) certification must accompany the DPP or DOCD?
250.261 What environmental impact analysis (EIA) information must accompany the DPP or DOCD?
250.262 What administrative information must accompany the DPP or DOCD?
Review and Decision Process for the DPP or DOCD
250.266 After receiving the DPP or DOCD, what will MMS do?
250.267 What actions will be taken after the DPP or DOCD is deemed submitted?
250.268 How does MMS respond to recommendations?
250.269 How will MMS evaluate the environmental impacts of the DPP or DOCD?
250.270 What decisions will MMS make on the DPP or DOCD and within what timeframe?
250.271 For what reasons will MMS disapprove the DPP or DOCD?
250.272 If a State objects to the DPP's or DOCD's coastal zone consistency certification, what can I do?
250.273 How do I submit a modified DPP or DOCD or resubmit a disapproved DPP or DOCD?
250.274 When can I expect a decision from MMS on the modified or resubmitted DPP or DOCD?
Post-Approval Requirements for the EP, DPP, and DOCD
250.280 How must I conduct activities under the approved EP, DPP, or DOCD?
250.281 What must I do to conduct activities under the approved EP, DPP, or DOCD?
250.282 Do I have to conduct post-approval monitoring?
250.283 When must I revise or supplement the approved EP, DPP, or DOCD?
250.284 How will MMS require revisions to the approved EP, DPP, or DOCD?
250.285 How do I submit revised and supplemental EPs, DPPs, or DOCDs?
Deepwater Operations Plans (DWOP)
250.288 When must I submit a DWOP?
250.289 Why do I need to submit a DWOP?
250.290 What are the three parts of a DWOP?
250.291 What must the Conceptual Part of a DWOP contain?
250.292 What must the Preliminary Part of a DWOP contain?
250.293 What must the Final Part of a DWOP contain?
250.294 Where do I send the DWOP?
250.295 When will the Regional Supervisor approve or disapprove the DWOP?
Conservation Information Documents (CID)
250.296 When and why must I submit a CID?
250.297 What information must a CID contain?
250.298 How do I submit a CID?
250.299 What decisions will MMS make on the CID?

General Information

§ 250.200 Definitions.

Acronyms and terms used in this subpart have the following meanings:

(a) Acronyms used frequently in the rule are alphabetically listed here:

CID means Conservation Information Document

CZM means Coastal Zone Management

DOCD means Development Operations Coordination Document

DPP means Development and Production Plan

DWOP means Deepwater Operations Plan

EIA means Environmental Impact Analysis

EP means Exploration Plan.

NPDES means National Pollutant Discharge Elimination System

NTL means Notice to Lessees and Operators

(b) Terms used in this subpart are listed here:

Act means the Outer Continental Shelf Lands Act, 43 U.S.C. 1331 et seq.

Amendment means a change you make to an Exploration Plan, Development and Production Plan, or Development Operations Coordination Document that is pending before MMS for a decision (see §§ 250.232(d) and 250.267(d)).

Ancillary activities means those activities on your lease or unit that:

(1) You conduct to obtain information to ensure the proper exploration or development of your lease or unit;

(2) Do not need to be covered by an approved Exploration Plan (EP), Development and Production Plan (DPP), or Development Operations Coordination Document (DOCD); and

(3) You can conduct without MMS approval of an application or permit.

Development means those activities that take place following discovery of minerals in paying quantities, including but not limited to geophysical activity, drilling, platform construction, and operation of all directly related onshore support facilities, and which are for the purpose of producing the minerals discovered (see § 250.105).

Development geophysical activities means those geophysical and related data-gathering activities on your lease or unit that take place following discovery of oil, gas, or sulphur in paying quantities.

Exploration means the commercial search for oil, gas, or sulphur. Activities classified as exploration include but are not limited to:

(1) Geophysical and geological (G&G) surveys using magnetic, gravity, seismic reflection, seismic refraction, gas sniffers, coring, or other systems to detect or imply the presence of oil, gas, or sulphur; and

(2) Any drilling conducted for the purpose of searching for commercial quantities of oil, gas, and sulphur, including the drilling of any additional well needed to delineate any reservoir to enable the lessee to decide whether to proceed with development and production (see § 250.105.)

Geophysical and geological explorations means those geophysical and geological surveys on your lease or unit that use seismic reflection, seismic refraction, magnetic, gravity, gas sniffers, coring, or other systems to detect or imply the presence of oil, gas, or sulphur in commercial quantities.

Modification means a change required by the Regional Supervisor to an EP, DPP, or DOCD (see § 250.233(b)(2) for an EP, or § 250.270(b)(2) for a DPP or a DOCD) that is pending before MMS for a decision because the OCS plan is inconsistent with applicable requirements.

New or unusual technology means equipment and/or procedures that:

(1) Function in a manner that potentially causes different impacts to the environment than the equipment or procedures did in the past;

(2) Have not been used previously or extensively in an MMS OCS Region;

(3) Have not been used previously under the anticipated operating conditions; or

(4) Have operating characteristics that are outside the performance parameters established by this Part.

Production means those activities that take place after the successful completion of any means for the removal of minerals, including such removal, field operations, transfer of minerals to shore, operation monitoring, maintenance, and workover operations (see § 250.105).

Prospect means a geologic feature having the potential for mineral deposits.

Resubmitted OCS plan means an EP, DPP, or DOCD that contains changes you make to a plan that MMS has disapproved.

Revised OCS plan means an EP, DPP, or DOCD that proposes changes to an approved OCS plan, such as those in the location of a well or platform, type of drilling unit, or location of the onshore support base (see § 250.283(a)).

Supplemental OCS plan means an EP, DPP, or DOCD that proposes the addition to an approved OCS plan of an activity that requires approval of an application or permit (see § 250.283(b)).

§ 250.201 What plans and information must I submit before I conduct any activities on my lease or unit?

(a) Plans and documents. Before you conduct any activities on your lease or unit, you must submit, and MMS must approve, the following plans and documents. Your plans and documents may cover one or more leases or units.

You must submit a(n)— | Before you—
(1) Exploration Plan (EP) | Conduct any exploration activities (see definition under § 250.105) on a lease or unit.
(2) Development and Production Plan (DPP) | Conduct any development and production (see definition under § 250.105) activities on a lease or unit in any OCS area other than the western Gulf of Mexico (GOM) (see definition under § 250.105).
(3) Development Operations Coordination Document (DOCD) | Conduct any development and production activities on a lease or unit in the western GOM.
(4) Deepwater Operations Plan (DWOP) | (i) Conduct any activities in any water depth associated with: (A) A development project that will involve the use of a floating production system; or (B) A development project that will involve the use of subsea production technology.
(5) Conservation Information Document (CID) | (i) Conduct any activities associated with: (A) A development project that will involve the use of a structure other than a conventional steel-piled jacket platform in water depths greater than 1,312 feet (400 meters); or (B) A development project that will involve the use of subsea production technology at any water depth.
(6) EP, DPP, or DOCD | (i) Conduct a geophysical and geological exploration or a development geophysical activity (see definitions under § 250.200) on your lease or unit when: (A) It will result in a physical penetration of the seabed greater than 500 feet (152 meters); (B) It will involve the use of explosives; (C) The Regional Director determines that it might have a significant adverse effect on the human, marine, or coastal environment; or (D) The Regional Supervisor, after reviewing a notice under § 250.209, determines that an EP, DPP, or DOCD is necessary.

(b) Submitting additional information. On a case-by-case basis, the Regional Supervisor may require you to submit additional information if the Regional Supervisor determines that it is necessary to evaluate your proposed plan or document.

(c) Limiting information. The Regional Director may limit the amount of information or analyses that you otherwise must provide in your proposed plan or document under this subpart when:

(1) Sufficient information or analysis is readily available to MMS;

(2) Other coastal or marine resources are not present or affected;

(3) You conduct activities according to a comprehensive environmental management program; or

(4) Other factors such as technological advances affect information needs.

(d) Referencing. In preparing your proposed plan or document, you may reference information and data discussed in other plans or documents you previously submitted or that are otherwise readily available to MMS.

§ 250.202 What criteria must the Exploration Plan (EP), Development and Production Plan (DPP), or Development Operations Coordination Document (DOCD) meet?

Your EP, DPP, or DOCD must demonstrate that you have planned and are prepared to conduct the proposed activities in a manner that:

(a) Conforms to the Act, as amended, applicable implementing regulations, and lease provisions and stipulations;

(b) Is safe;

(c) Conforms to sound conservation practices and protects the rights of the lessor;

(d) Does not unreasonably interfere with other uses of the OCS, including those involved with national security or defense; and

(e) Does not cause undue or serious harm or damage to the human, marine, or coastal environment.

§ 250.203 Where can wells be located under an EP, DPP or DOCD?

The Regional Supervisor reviews and approves proposed well location and spacing under an EP, DPP or DOCD. In deciding whether to approve a proposed well location and spacing, the Regional Supervisor will consider factors including, but not limited to, the following:

(a) Protecting correlative rights;

(b) Recovering optimum resources;

(c) Number of wells that can be economically drilled for proper reservoir management;

(d) Location of drilling units and platforms;

(e) Extent and thickness of the reservoir;

(f) Geologic and other reservoir characteristics;

(g) Minimizing environmental risk;

(h) Preventing unreasonable interference with other uses of the OCS; and

(i) Drilling of unnecessary wells.

§ 250.204 How must I protect MMS' rights?

(a) You must either:

(1) Drill and produce the wells that the Regional Supervisor determines are necessary to protect MMS from loss due to production on other leases or units; or

(2) Pay a sum that the Regional Supervisor determines and approves as adequate to compensate MMS for your failure to drill and produce any well.

(b) Payment under paragraph (a)(2) of this section constitutes production in paying quantities for the purpose of extending the lease term.

(c) You must complete and produce any penetrated hydrocarbon-bearing zone that the Regional Supervisor determines is necessary to conform to sound conservation practices.

§ 250.205 Are there special requirements if my well affects an adjacent property?

For wells that could intersect or drain an adjacent property, the Regional Supervisor may require special measures to protect the rights of MMS and objecting lessees or operators of adjacent leases or units.

§ 250.206 How do I submit the EP, DPP, or DOCD?

(a) Number of copies. When you submit an EP, DPP, or DOCD to MMS, you must provide:

(1) Four copies that contain all required information (proprietary copies);

(2) Eight copies for public distribution (public information copies) that omit information that you assert is exempt from disclosure under the Freedom of Information Act (5 U.S.C. 552) and the implementing regulations (43 CFR part 2); and

(3) Any additional copies that may be necessary to facilitate review of the EP, DPP, or DOCD by certain affected States.

(a) Mailing Addresses. Submit EPs, DPPs, and DOCDs for activities in the OCS to one of the following addresses:

(1) For the OCS off the State of Alaska—Minerals Management Service, Alaska OCS Region, Regional Supervisor, Field Operations, 949 East 36th Avenue, Room 308, Anchorage, AK 99508-4363

(2) For the OCS off the Atlantic Coast States and in the Gulf of Mexico—Minerals Management Service, Gulf of Mexico OCS Region, Regional Supervisor, Field Operations, 1201 Elmwood Park Boulevard, New Orleans, LA 70123-2394

(3) For the OCS off the States of California, Oregon, Washington, or Hawaii—Minerals Management Service, Pacific OCS Region, Regional Supervisor, Office of Field Operations, 770 Paseo Camarillo, Camarillo, CA 93010-6064

(c) Electronic Submission. The Regional Supervisor may require that you submit part or all of your EP, DPP, or DOCD and its accompanying information electronically. If it is not required but you prefer to submit your EP, DPP, or DOCD electronically, ask the Regional Supervisor for further guidance.

(d) Withdrawal after submission. You may withdraw your proposed EP, DPP, or DOCD at any time for any reason. Notify the appropriate MMS OCS Region at the address in paragraph (b) of this section.

Ancillary Activities

§ 250.207 What ancillary activities may I conduct?

Before or after you submit an EP, DPP, or DOCD to MMS, you may elect, the regulations in this part may require, or the Regional Supervisor may direct you to conduct ancillary activities. Ancillary activities include:

(a) Geophysical and geological explorations, and development geophysical activities, except those that must be covered by an EP, DPP, or DOCD under § 250.201(a)(6), or § 250.209.

(b) Geological hazards, geotechnical, archaeological, biological, physical oceanographic, meteorological, socioeconomic, or other surveys; or

(c) Studies that model potential oil and hazardous substance spills, drilling muds and cuttings discharges, projected air emissions, or potential hydrogen sulfide (H2S) releases.

§ 250.208 If I conduct ancillary activities, what notices must I provide?

At least 30 calendar days before you conduct any geophysical and geological exploration or development geophysical activity (see § 250.207(a)), you must notify the Regional Supervisor in writing.

(a) When you prepare the notice, you must:

(1) Sign and date the notice;

(2) Provide the names of the vessel, its operator, and the person(s) in charge; the type(s) of operations you will conduct; and the instrumentation/techniques and vessel navigation you will use;

(3) Provide expected start and completion dates and the location of the activity; and

(4) Describe the potential adverse environmental effects of the proposed activity and any mitigation to eliminate or minimize these effects on the marine, coastal, and human environment.

(b) The Regional Supervisor may require you to:

(1) Give written notice to MMS before you conduct any other ancillary activity in addition to those listed in § 250.207(a); and

(2) Notify other users of the OCS before you conduct any ancillary activity.

§ 250.209 What is the MMS review process for the notice?

The Regional Supervisor will review any notice required under § 250.208(b) to ensure that your ancillary activity complies with the performance standards listed in § 250.202 (a), (b), (d), and (e). Under § 250.106, the Regional Supervisor may notify you that your ancillary activity does not comply with those standards. In such a case, the Regional Supervisor will require you to submit an EP, DPP, or DOCD, and you may not start your ancillary activity until the Regional Supervisor approves the EP, DPP, or DOCD.

§ 250.210 If I conduct ancillary activities, what reporting and data/information retention requirements must I satisfy?

(a) Reporting. The Regional Supervisor may require you to prepare and submit a report that summarizes and analyzes data or information obtained or derived from your ancillary activities.

(b) Data or information retention. You must retain copies of all original survey and study data or information obtained or derived from your ancillary activities, including any data or information obtained from previous leaseholders or unit operators. You must retain these records, including navigation data, and submit them to MMS for inspection and possible retention upon request at any time before lease or unit termination.

Contents of Exploration Plans (EP)

§ 250.211 What must the EP include?

Your EP must include the following:

(a) Description, objectives, and schedule. A description, discussion of the objectives, and tentative schedule (from start to completion) of the exploration activities that you propose to undertake. (Examples of exploration activities are: exploration drilling; well test flaring; installing a well protection structure; temporary well abandonment; and in the MMS Alaska and Pacific OCS Regions, 2-D, 3-D, 4-D, and multicomponent seismic activities.)

(b) Location. A map showing the surface and bottom-hole location and water depth of each proposed well and the locations of all associated drilling unit anchors.

(c) Drilling unit. A description of the drilling unit and associated equipment you will use to conduct your proposed exploration activities, including a brief description of important safety and pollution prevention features, and a table indicating the type and the estimated maximum quantity of fuels, oil, and lubricants that will be stored on the facility (see third definition of facility under § 250.105).

§ 250.212 What information must accompany the EP?

The following information must accompany your EP:

(a) General information required by § 250.213;

(b) Geophysical and geological information required by § 250.214;

(c) Hydrogen sulfide information required by § 250.215;

(d) Biological, physical, and socioeconomic information required by § 250.216;

(e) Solid and liquid wastes and discharges information and cooling water intake information required by § 250.217;

(f) Air emissions information required by § 250.218;

(g) Oil and hazardous substance spills information required by § 250.219;

(h) Alaska planning information required by § 250.220;

(i) Environmental monitoring information required by § 250.221;

(j) Lease stipulations information required by § 250.222;

(k) Mitigation measures information required by § 250.223;

(l) Support vessels and aircraft information required by § 250.224;

(m) Onshore support facilities information required by § 250.225;

(n) Coastal zone management information required by § 250.226;

(o) An environmental impact analysis required by § 250.227; and

(p) Administrative information required by § 250.228.

§ 250.213 What general information must accompany the EP?

The following general information must accompany your EP:

(a) Applications and permits. A listing, including filing or approval status, of the Federal, State, and local application approvals or permits you must obtain to conduct your proposed exploration activities.

(b) Drilling fluids. A table showing the components, chemical composition, and projected amounts and rates of usage of each drilling fluid you will use to drill your proposed exploration wells.

(c) Chemical products. A table showing the name and brief description, quantities to be stored, storage method, and rates of usage of the chemical products you will use to conduct your proposed exploration activities. List only those chemical products you will store or use in quantities greater than the amounts defined as Reportable Quantities in 40 CFR part 302, or amounts specified by the Regional Supervisor.

(d) New or unusual technology. A description and discussion of any new or unusual technology you will use to carry out your proposed exploration activities (see definition under § 250.200).

(e) Bonds, oil spill financial responsibility, and well control statements. Statements attesting that:

(1) The activities and facilities proposed in your EP are covered by an appropriate lease or areawide surety bond or alternative security instrument according to 30 CFR part 256, subpart I;

(2) You have demonstrated or will demonstrate oil spill financial responsibility for facilities proposed in your EP according to 30 CFR part 253; and

(3) You have or will have the financial capability to drill a relief well and conduct other emergency well control operations.

(f) Suspensions of operations. A brief discussion of any suspensions of operations that you anticipate may be necessary in the course of conducting your activities under the EP.

(g) Blowout scenario. A scenario for the potential blowout of the proposed well in your EP that you expect will have the highest volume of liquid hydrocarbons. Include the estimated flow rate, total volume, and timeframe associated with the potential blowout. Also, discuss the potential for the well to bridge over, the likelihood for surface intervention to stop the blowout, the availability of a rig to drill a relief well, and rig package constraints. Estimate the time it would take to drill a relief well.

(h) Contact. The name, address (e-mail address, if available), and telephone number of the person with whom the Regional Supervisor and any affected State(s) can communicate with about your EP.

§ 250.214 What geological and geophysical (G&G) information must accompany the EP?

The following G&G information must accompany your EP:

(a) Geological description. A geological description of the prospect(s).

(b) Structure contour maps. Current structure contour maps (depth-based, expressed in feet subsea) drawn on the top of each prospective hydrocarbon-bearing reservoir showing the locations of proposed wells.

(c) Two-dimensional (2-D) or three-dimensional (3-D) seismic lines. Copies of migrated and annotated 2-D or 3-D seismic lines (with depth scale) intersecting at or near your proposed well locations. (You are not required to conduct both 2-D and 3-D seismic surveys if you choose to conduct only one type of survey.) If you have conducted both types of surveys, the Regional Supervisor may instruct you to submit the results of both surveys. You must interpret and display this information. Because of its volume, you must provide this data or information as an enclosure to only one proprietary copy of your EP.

(d) Geological structure cross-sections. Interpreted geological structure cross-sections showing the location and depth of each proposed well.

(e) Shallow hazards report. A shallow hazards report based on information obtained from a high-resolution geophysical survey or a reference to such report if you have already submitted it to the Regional Supervisor.

(f) Shallow hazards assessment. For each proposed well, an assessment of any seafloor and subsurface geological and manmade features and conditions that may adversely affect your proposed drilling operations.

(g) High-resolution seismic lines. Copies of the two intersecting high-resolution survey lines that are closest to your proposed well locations. Because of its volume, you must provide this data as an enclosure to only one proprietary copy of your EP.

(h) Stratigraphic column. A generalized biostratigraphic/lithostratigraphic column from the surface to the total depth of the prospect.

(i) Time-versus-depth chart. A seismic travel time-versus-depth chart based on the appropriate velocity analysis in the area of interpretation and specifying the geodetic datum.

(j) Geochemical information. A copy of any geochemical reports you used or generated.

(k) Future G&G activities. A brief description of the types of geophysical and geological explorations and development geophysical activities you may conduct for lease or unit purposes after your EP is approved.

§ 250.215 What hydrogen sulfide (H2S) information must accompany the EP?

The following H2S information, as applicable, must accompany your EP:

(a) Concentration. The estimated concentration of any H2S you might encounter while you conduct your proposed exploration activities.

(b) Classification. Pursuant to § 250.417(c), a request that the Regional Supervisor classify the area of your proposed exploration activities as either H2S absent, H2S present, or H2S unknown. Provide sufficient information to justify your request.

(c) H2S Contingency Plan. If you ask the Regional Supervisor to classify the area of your proposed exploration activities as either H2S present or H2S unknown, an H2S Contingency Plan prepared pursuant to § 250.417(f) or a reference to an approved or submitted H2S Contingency Plan that covers the proposed exploration activities.

(d) Modeling report. In developing your EP, if you model a potential H2S release, a modeling report or the modeling results, or a reference to such report or results if you have already submitted it to the Regional Supervisor.

(1) The analysis in the modeling report must be specific to the particular site of your proposed exploration activities and must consider any nearby human-occupied OCS facilities, shipping lanes, fishery areas, and other points where humans may be subject to potential exposure from an H2S release from your proposed activities.

(2) If any H2S emissions are projected to affect an onshore area, the modeling analysis must be consistent with the Environmental Protection Agency's (EPA) risk management plan methodologies outlined in 40 CFR part 68.

§ 250.216 What biological, physical, and socioeconomic information must accompany the EP?

In developing your EP, if you obtain the following information, you must include a report, or the information obtained, or a reference to such a report or information if you have already submitted it to the Regional Supervisor, as accompanying information:

(a) Biological environment reports. Site-specific information on chemosynthetic communities, sensitive underwater features, marine sanctuaries, or other areas of biological concern.

(b) Physical environment reports. Site-specific meteorological, physical oceanographic, geotechnical, or archaeological information.

(c) Socioeconomic study reports. Socioeconomic information regarding your proposed exploration activities.

§ 250.217 What solid and liquid wastes and discharges information and cooling water intake information must accompany the EP?

The following solid and liquid wastes and discharges information and cooling water intake information must accompany your EP:

(a) Projected wastes. A table providing the name, brief description, projected quantity (annual or monthly), and composition of solid and liquid wastes (such as spent drilling fluids, drill cuttings, trash, sanitary and domestic wastes, and chemical product wastes) likely to be generated by your proposed exploration activities.

Describe:

(1) The methods you used for determining this information; and

(2) Your plans for treating, storing, and downhole disposal of these wastes at your drilling location(s).

(b) Projected ocean discharges. If any of your solid and liquid wastes will be discharged overboard or are planned discharges from manmade islands:

(1) A table showing the name, projected amount, and rate of discharge for each waste type; and

(2) A description of the discharge method you will use.

(c) National Pollutant Discharge Elimination System (NPDES) permit.

(1) A discussion of how you will comply with the provisions of the applicable general NPDES permit that covers your proposed exploration activities; or

(2) A copy of your application for an individual NPDES permit. Briefly describe the major discharges and methods you will use for compliance.

(d) Modeling report. In developing your EP, if you model the discharges of your projected solid or liquid wastes, a modeling report, or the modeling results, or a reference to such report or results if you have already submitted it to the Regional Supervisor.

(e) Projected cooling water intake. A table for each cooling water intake structure likely to be used by your proposed exploration activities that includes a brief description of the cooling water intake structure, daily water intake rate, water intake through-screen velocity, percentage of water intake used for cooling water, mitigation measures for reducing impingement and entrainment of aquatic organisms, and biofouling prevention measures.

§ 250.218 What air emissions information must accompany the EP?

The following air emissions information, as applicable, must accompany your EP:

(a) Projected emissions. Tables showing the projected emissions of sulphur dioxide (SO2), particulate matter in the form of PM10 and PM2.5 when applicable, nitrogen oxides (NOX), carbon monoxide (CO), and volatile organic compounds (VOC) that will be generated by your proposed exploration activities.

(1) For each source on or associated with the drilling unit (including well test flaring and well protection structure installation), you must list:

(i) The projected peak hourly emissions;

(ii) The total annual emissions in tons per year;

(iii) Emissions over the duration of the proposed exploration activities;

(iv) The frequency and duration of emissions; and

(v) The total of all emissions listed in paragraphs (a)(1)(i) through (iv) of this section.

(2) You must provide the basis for all calculations, including engine size and rating and applicable operational information.

(3) You must base the projected emissions on the maximum rated capacity of the equipment on the proposed drilling unit under its physical and operational design.

(4) If the specific drilling unit has not yet been determined, you must use the maximum emission estimates for the type of drilling unit you will use.

(b) Emission reduction measures. A description of any proposed emission reduction measures, including the affected source(s), the emission reduction control technologies or procedures, the quantity of reductions to be achieved, and any monitoring system you propose to use to measure emissions.

(c) Processes, equipment, fuels, and combustibles. A description of processes, processing equipment, combustion equipment, fuels, and storage units. You must include the characteristics and the frequency, duration, and maximum burn rate of any well test fluids to be burned.

(d) Distance to shore. Identification of the distance of your drilling unit from the mean high water mark (mean higher high water mark on the Pacific coast) of the adjacent State.

(e) Non-exempt drilling units. A description of how you will comply with § 250.303 when the projected emissions of SO2, PM, NOX, CO, or VOC that will be generated by your proposed exploration activities are greater than the respective emission exemption amounts “E” calculated using the formulas in § 250.303(d). When MMS requires air quality modeling, you must use the guidelines in Appendix W of 40 CFR part 51 with a model approved by the Director. Submit the best available meteorological information and data consistent with the model(s) used.

(f) Modeling report. In developing your EP, if you are required by § 250.303 to use an approved air quality model to model projected air emissions, a modeling report, or the modeling results, or a reference to such a report or results if you have already submitted it to the Regional Supervisor.

§ 250.219 What oil and hazardous substance spills information must accompany the EP?

The following information regarding potential spills of oil (see definition under 30 CFR 254.6) and hazardous substances (see definition under 40 CFR part 116) as applicable, must accompany your EP:

(a) Oil spill response planning. The material required under either paragraph (a)(1) or (a)(2) of this section:

(1) An Oil Spill Response Plan (OSRP) for the facilities you will use to conduct your exploration activities prepared according to the requirements of 30 CFR part 254, subpart B; or

(2) Reference to your approved regional OSRP (see 30 CFR 254.3) to include:

(i) A discussion of your regional OSRP;

(ii) The location of your primary oil spill equipment base and staging area;

(iii) The name(s) of your oil spill removal organization(s) for both equipment and personnel;

(iv) The calculated volume of your worst case discharge scenario (see 30 CFR 254.26(a)), and a comparison of the appropriate worst case discharge scenario in your approved regional OSRP with the worst case discharge scenario that could result from your proposed exploration activities; and

(v) A description of the worst case discharge scenario that could result from your proposed exploration activities (see 30 CFR 254.26 (b), (c), (d) and (e)).

(b) Modeling report. In developing your EP, if you model a potential oil or hazardous substance spill, a modeling report, or the modeling results, or a reference to such report or results if you have already submitted it to the Regional Supervisor.

§ 250.220 If I propose activities in the Alaska OCS Region, what planning information must accompany the EP?

If you propose exploration activities in the Alaska OCS Region, the following planning information must accompany your EP:

(a) Emergency plans. A description of your emergency plans to respond to a blowout, loss or disablement of a drilling unit, and loss of or damage to support craft.

(b) Critical operations and curtailment procedures. Critical operations and curtailment procedures for your exploration activities. The procedures must identify ice conditions, weather, and other constraints under which the exploration activities will either be curtailed or not proceed.

§ 250.221 What environmental monitoring information must accompany the EP?

The following environmental monitoring information, as applicable, must accompany your EP:

(a) Monitoring systems. A description of any existing and planned monitoring systems that are measuring, or will measure, environmental conditions and/or will provide project-specific data or information on the impacts of your exploration activities.

(b) Flower Garden Banks National Marine Sanctuary. If you propose to conduct exploration activities within the 4-mile protective zone of the Flower Garden Banks National Marine Sanctuary, a description of your provisions for monitoring the impacts of an oil spill.

§ 250.222 What lease stipulations information must accompany the EP?

A description of the measures you took, or will take, to satisfy the conditions of lease stipulations related to your proposed exploration activities must accompany your EP.

§ 250.223 What mitigation measures information must accompany the EP?

A description of any measures you will use, beyond those required by the regulations in this part, to minimize or mitigate environmental impacts from your proposed exploration activities must accompany your EP.

§ 250.224 What information on the support vessels, offshore vehicles, and aircraft you will use must accompany the EP?

The following information on the support vessels, offshore vehicles, and aircraft you will use must accompany your EP:

(a) General. A description of the crew boats, supply boats, anchor handling vessels, tug boats, barges, ice management vessels, other vessels, offshore vehicles, and aircraft you will use to support your exploration activities. The description of vessels and offshore vehicles must estimate the storage capacity of their fuel tanks and the frequency of their visits to your drilling unit.

(b) Air emissions. A table showing the source, composition, frequency, and duration of the air emissions likely to be generated by the support vessels, offshore vehicles, and aircraft you will use that will operate within 25 miles of your drilling unit.

(c) Drilling fluids and chemical products transportation. A description of the transportation method and quantities of drilling fluids and chemical products (see § 250.213(b) and (c)) you will transport from the onshore support facilities you will use to your drilling unit.

(d) Solid and liquid wastes transportation. A description of the transportation method; reason for transportation; and brief description of the composition, quantities, and destination(s) of solid and liquid wastes (see § 250.217(a)) you will transport from your drilling unit.

(e) Vicinity map. A map showing the location of your proposed exploration activities relative to the shoreline. The map must depict the route(s) the support vessels and aircraft will use when traveling between the onshore support facilities you will use and your drilling unit.

§ 250.225 What information on the onshore support facilities you will use must accompany the EP?

The following information on the onshore support facilities you will use must accompany your EP:

(a) General. A description of the onshore facilities you will use to provide supply and service support for your proposed exploration activities (e.g., service bases and mud company docks).

(1) Indicate whether the onshore support facilities are existing, to be constructed, or to be expanded.

(2) If the onshore support facilities are, or will be located, in areas not adjacent to the Western GOM, provide a timetable for acquiring lands (including rights-of-way and easements) and constructing or expanding them.

(b) Air emissions. A description of the source, composition, frequency, and duration of the air emissions (attributable to your proposed exploration activities) likely to be generated by the onshore support facilities you will use.

(c) Unusual solid and liquid wastes. A description of the quantity, composition, and method of disposal of any unusual solid and liquid wastes (attributable to your proposed exploration activities) likely to be generated by the onshore support facilities you will use.

(d) Waste disposal. A description of the onshore facilities you will use to store and dispose of solid and liquid wastes generated by your proposed exploration activities (see § 250.217) and the types and quantities of such wastes.

§ 250.226 What Coastal Zone Management Act (CZMA) certification must accompany the EP?

Your EP must be accompanied by a copy of your consistency certification under § 307(c)(3)(B) of the CZMA (16 U.S.C. 1456(c)(3)(B)) and 15 CFR 930.76(d) that states that each of the proposed exploration activities described in detail in this EP comply with (name of State(s)) approved coastal management program(s) and will be conducted in a manner that is consistent with such program(s).

§ 250.227 What environmental impact analysis (EIA) information must accompany the EP?

The following EIA information must accompany your EP:

(a) General requirements. Your EIA must:

(1) Assess the potential environmental impacts of your proposed exploration activities;

(2) Be project specific; and

(3) Be as detailed as necessary to assist the Regional Supervisor in complying with the National Environmental Policy Act (NEPA) of 1969 (42 U.S.C. 4321 et seq.) and other relevant Federal laws.

(b) Resources, conditions, and activities. Your EIA must describe those resources, conditions, and activities listed below that could be affected by your proposed exploration activities or that could affect the construction and operation of facilities or structures or the activities proposed in your EP.

(1) Meteorology, oceanography, geology, and geological and/or manmade hazards;

(2) Air and water quality;

(3) Benthic communities, marine mammals, sea turtles, coastal and marine birds, fish and shellfish, and plant life;

(4) Threatened or endangered species and their critical habitat;

(5) Sensitive biological resources or habitats such as essential fish habitat, refuges, preserves, special management areas identified in coastal management programs, sanctuaries, rookeries, and calving grounds;

(6) Archaeological resources;

(7) Socioeconomic resources including employment, existing offshore and coastal infrastructure (including major sources of supplies, services, energy, water), land use, subsistence resources and harvest practices, recreation, recreational and commercial fishing (including typical fishing seasons, location, and type), minority and lower income groups, and coastal zone management programs;

(8) Coastal and marine uses such as military activities, shipping, and mineral exploration or development; and

(9) Other resources, conditions, and activities identified by the Regional Supervisor.

(c) Environmental impacts. Your EIA must:

(1) Analyze the potential direct and indirect impacts (including those from accidents and cooling water intake structures) that your proposed exploration activities will have on the identified resources, conditions, and activities;

(2) Analyze any potential cumulative impacts from other activities to those identified resources, conditions, and activities potentially impacted by your proposed exploration activities;

(3) Describe the type, severity, and duration of these potential impacts and their biological, physical, and other consequences and implications;

(4) Describe potential measures to minimize or mitigate these potential impacts; and

(5) Summarize the information you incorporate by reference.

(d) Consultation. Your EIA must include a list of agencies and persons you consulted, or you will be consulting, regarding potential impacts associated with your proposed exploration activities.

(e) References cited. Your EIA must include a list of the references that you cite in the EIA.

§ 250.228 What administrative information must accompany the EP?

The following administrative information must accompany your EP:

(a) Exempted information description (public information copies only). A description of the general subject matter of the proprietary information that is included in the proprietary copies of your EP or its accompanying information.

(b) Bibliography. (1) A list of each previously submitted EP, DPP, DOCD, study report, survey report, or other material that you reference in your EP or its accompanying information.

(2) The location(s) where the Regional Supervisor can inspect the cited referenced material if you have not submitted it.

Review and Decision Process for the EP

§ 250.231 After receiving the EP, what will MMS do?

(a) Determine whether deemed submitted. Within 15 working days after receiving your proposed EP and its accompanying information, the Regional Supervisor will review your submission and deem your EP submitted if:

(1) The submitted information, including the information that must accompany the EP (refer to list in § 250.212), fulfills requirements and is sufficiently accurate;

(2) You have provided all needed additional information (see § 250.201(b)); and

(3) You have provided the required number of copies (see § 250.206(a)).

(b) Identify problems and deficiencies. If the Regional Supervisor determines that you have not met each of the conditions in paragraph (a) of this section, the Regional Supervisor will notify you of the problem or deficiency. The Regional Supervisor will not deem your EP submitted until you have corrected any problem or deficiency identified in the notice.

§ 250.232 What actions will be taken after the EP is deemed submitted?

(a) State and CZM consistency reviews. Within 2 working days after deeming your EP submitted under § 250.231(a), the Regional Supervisor will send by receipted mail a public information copy of the EP and its accompanying information to the following:

(1) The Governor of each affected State. The Governor has 21 calendar days after receiving your deemed-submitted EP to submit comments. The Regional Supervisor will consider comments received by the deadline.

(2) The CZM agency of each affected State. The CZMA consistency review period under § 307(c)(3)(B)(iii) of the CZMA (16 U.S.C. 1456(c)(3)(B)(ii)) and 15 CFR 930.78 begins when the State's CZM agency receives a copy of your deemed-submitted EP, consistency certification, and required necessary data and information (see 15 CFR 930.77(a)(1)).

(b) MMS compliance review. The Regional Supervisor will review the exploration activities described in your proposed EP to ensure that they conform to the performance standards in § 250.202.

(c) MMS environmental impact evaluation. The Regional Supervisor will evaluate the environmental impacts of the activities described in your proposed EP and prepare environmental documentation under NEPA (42 U.S.C. 4321 et seq.) and the implementing regulations (40 CFR parts 1500 through 1508).

(d) Amendments. During the review of your proposed EP, the Regional Supervisor may require you, or you may elect, to change your EP.

§ 250.233 What decisions will MMS make on the EP and within what timeframe?

(a) Timeframe. The Regional Supervisor will take one of the actions shown in the table in paragraph (b) of this section within 30 calendar days after the Regional Supervisor deems your EP submitted under § 250.231(a) or receives the last amendment to your proposed EP, whichever occurs later.

(b) MMS decision. By the deadline in paragraph (a) of this section, the Regional Supervisor will take one of the following actions:

The Regional Supervisor will— | if— | and then—
(1) Approve your EP | it complies with all applicable requirements | the Regional Supervisor will notify you in writing of the decision and may require you to meet certain conditions, including those to provide monitoring information.
(2) Require you to modify your proposed EP | the Regional Supervisor finds that it is inconsistent with the lease, the Act, or the regulations prescribed under the Act or other Federal laws | the Regional Supervisor will notify you in writing of the decision and describe the modifications you must make to your proposed EP to ensure it complies with all applicable requirements.
(3) Disapprove your EP | (i) your proposed activities would probably cause serious harm or damage to life (including fish or other aquatic life); property; any mineral (in areas leased or not leased); the national security or defense; or the marine, coastal, or human environment; and you cannot modify your proposed activities to avoid such condition(s) | (A) the Regional Supervisor will notify you in writing of the decision and describe the reason(s) for disapproving your EP. (B) MMS may cancel your lease and compensate you pursuant to 43 U.S.C. 1334(a)(2)(C) and the implementing regulations in §§ 250.182, 250.184, 250.185, and 30 CFR 256.77.

§ 250.234 How do I submit a modified EP or resubmit a disapproved EP, and when will MMS make a decision?

(a) Modified EP. If the Regional Supervisor requires you to modify your proposed EP under § 250.233(b)(2), you must submit the modification(s) to the Regional Supervisor in the same manner as for a new EP. You need submit only information related to the proposed modification(s).

(b) Resubmitted EP. You may resubmit your disapproved EP if there is a change in the conditions that were the basis of its disapproval.

(c) MMS review and timeframe. The Regional Supervisor will use the performance standards in § 250.202 to either approve, require you to further modify, or disapprove your modified or resubmitted EP. The Regional Supervisor will make a decision within 30 calendar days after the Regional Supervisor deems your modified or resubmitted EP to be submitted or receives the last amendment to your modified or resubmitted EP, whichever occurs later.

§ 250.235 If a State objects to the EP's coastal zone consistency certification, what can I do?

If an affected State objects to the coastal zone consistency certification accompanying your proposed EP, you may do one of the following:

(a) Amend your EP. Amend your EP to accommodate the State's objection and submit the amendment to the Regional Supervisor for approval. The amendment needs only address information related to the State's objection.

(b) Appeal. Appeal the State's objection to the Secretary of Commerce using the procedures in 15 CFR part 930, subpart H. The Secretary of Commerce will either:

(1) Grant your appeal by finding, under § 307(c)(3)(B)(iii) of the CZMA (16 U.S.C. 1456(c)(3)(B)(iii)) that each activity described in detail in your EP is consistent with the objectives of the CZMA or is otherwise necessary in the interest of national security; or

(2) Deny your appeal, in which case you may amend your EP as described in paragraph (a) of this section.

(c) Withdraw your EP. Withdraw your EP if you decide not to conduct your proposed exploration activities.

Contents of Development and Production Plans (DPP) and Development Operations Coordination Documents (DOCD)

§ 250.241 What must the DPP or DOCD include?

Your DPP or DOCD must include the following:

(a) Description, objectives, and schedule. A description, discussion of the objectives, and tentative schedule (from start to completion) of the development and production activities you propose to undertake. Examples of development and production activities include:

(1) Development drilling;

(2) Well test flaring;

(3) Installation of production platforms, satellite structures, subsea wellheads and manifolds, and lease term pipelines (see definition at § 250.105);

(4) Installation of production facilities and conduct of production operations; and

(5) In the MMS Alaska and Pacific OCS Regions, 2-D, 3-D, 4-D, and multicomponent seismic activities.

(b) Location. The location and water depth of each of your proposed wells and production facilities. Include a map showing the surface and bottom-hole location and water depth of each proposed well, the surface location of each production facility, and the locations of all associated drilling unit and construction barge anchors.

(c) Drilling unit. A description of the drilling unit and associated equipment you will use to conduct your proposed development drilling activities. Include a brief description of important safety and pollution prevention features, and a table indicating the type and the estimated maximum quantity of fuels and oil that will be stored on the facility (see third definition of “facility” under § 250.105).

(d) Production facilities. A description of the production platforms, satellite structures, subsea wellheads and manifolds, lease term pipelines (see definition at § 250.105), production facilities, umbilicals, and other facilities you will use to conduct your proposed development and production activities. Include a brief description of important safety and pollution prevention features, and a table indicating the type and the estimated maximum quantity of fuels and oil that will be stored on the facility (see third definition of “facility” under § 250.105).

§ 250.242 What information must accompany the DPP or DOCD?

The following information must accompany your DPP or DOCD.

(a) General information required by § 250.243;

(b) Geological and geophysical information required by § 250.244;

(c) Hydrogen sulfide information required by § 250.245;

(d) Mineral resource conservation information required by § 250.246;

(e) Biological, physical, and socioeconomic information required by § 250.247;

(f) Solid and liquid wastes and discharges information and cooling water intake information required by § 250.248;

(g) Air emissions information required by § 250.249;

(h) Oil and hazardous substance spills information required by § 250.250;

(i) Alaska planning information required by § 250.251;

(j) Environmental monitoring information required by § 250.252;

(k) Lease stipulations information required by § 250.253;

(l) Mitigation measures information required by § 250.254;

(m) Decommissioning information required by § 250.255;

(n) Related facilities and operations information required by § 250.256;

(o) Support vessels and aircraft information required by § 250.257;

(p) Onshore support facilities information required by § 250.258;

(q) Sulphur operations information required by § 250.259;

(r) Coastal zone management information required by § 250.260;

(s) An environmental impact analysis required by § 250.261; and

(t) Administrative information required by § 250.262.

§ 250.243 What general information must accompany the DPP or DOCD?

The following general information must accompany your DPP or DOCD:

(a) Applications and permits. A listing, including filing or approval status, of the Federal, State, and local application approvals or permits you must obtain to carry out your proposed development and production activities.

(b) Drilling fluids. A table showing the components, chemical composition, and projected amounts and rates of usage of each drilling fluid you will use to drill your proposed development wells.

(c) Production. The following production information:

(1) Estimates of the average and peak rates of production for each type of production, the life of the reservoir(s) you intend to produce, and a production decline curve; and

(2) The chemical and physical characteristics of the produced oil (see definition under 30 CFR 254.6) that you will handle or store at the facilities you will use to conduct your proposed development and production activities.

(d) Chemical products. A table showing the name and brief description, quantities to be stored, storage method, and rates of usage of the chemical products you will use to conduct your proposed development and production activities. You need list only those chemical products you will store or use in quantities greater than the amounts defined as Reportable Quantities in 40 CFR part 302, or amounts specified by the Regional Supervisor.

(e) New or unusual technology. A description and discussion of any new or unusual technology you will use to carry out your proposed development and production activities (see definition under § 250.200).

(f) Bonds, oil spill financial responsibility, and well control statements. Statements attesting that:

(1) The activities and facilities proposed in your DPP or DOCD are covered by an appropriate lease or areawide surety bond or alternative security instrument according to 30 CFR part 256, subpart I;

(2) You have demonstrated or will demonstrate oil spill financial responsibility for facilities proposed in your DPP or DOCD, according to 30 CFR part 253; and

(3) You have or will have the financial capability to drill a relief well and conduct other emergency well control operations.

(g) Suspensions of production or operations. A brief discussion of any suspensions of production or suspensions of operations that you anticipate may be necessary in the course of conducting your activities under the DPP or DOCD.

(h) Blowout scenario. A scenario for a potential blowout of the proposed well in your DPP or DOCD that you expect will have the highest volume of liquid hydrocarbons. Include the estimated flow rate, total volume, and timeframe associated with the potential blowout. Also, discuss the potential for the well to bridge over, the likelihood for surface intervention to stop the blowout, the availability of a rig to drill a relief well, and rig package constraints. Estimate the time it would take to drill a relief well.

(i) Contact. The name, address (e-mail address, if available), and telephone number of the person with whom the Regional Supervisor and the affected State(s) can communicate with about your DPP or DOCD.

§ 250.244 What geological and geophysical (G&G) information must accompany the DPP or DOCD?

The following G&G information must accompany your DPP or DOCD:

(a) Geological description. A geological description of the prospect(s).

(b) Structure contour maps. Current structure contour maps (depth-based, expressed in feet subsea) showing depths of expected productive formations and the locations of proposed wells.

(c) Two dimensional (2-D) or three-dimensional (3-D) seismic lines. Copies of migrated and annotated 2-D or 3-D seismic lines (with depth scale) intersecting at or near your proposed well locations. (You are not required to conduct both 2-D and 3-D seismic surveys if you choose to conduct only one type of survey.) If you have conducted both types of surveys, the Regional Supervisor may instruct you to submit the results of both surveys. You must interpret and display this information. You must provide this information as an enclosure to only one proprietary copy of your DPP or DOCD.

(d) Geological structure cross-sections. Interpreted geological structure cross-sections showing the depths of expected productive formations.

(e) Shallow hazards report. A shallow hazards report based on information obtained from a high-resolution geophysical survey or a reference to such report if you have already submitted it to the Regional Supervisor.

(f) Shallow hazards assessment. For each proposed well, an assessment of any seafloor and subsurface geologic and manmade features and conditions that may adversely affect your proposed drilling operations.

(g) High resolution seismic lines. Copies of the two intersecting high-resolution survey lines that are closest to your proposed well locations. You must provide this information as an enclosure to only one proprietary copy of your DPP or DOCD.

(h) Stratigraphic column. A generalized biostratigraphic/lithostratigraphic column from the surface to the total depth of each proposed well.

(i) Time-versus-depth chart. A seismic travel time-versus-depth chart based on the appropriate velocity analysis in the area of interpretation and specifying the geodetic datum.

(j) Geochemical information. A copy of any geochemical reports you used or generated.

(k) Future G&G activities. A brief description of the geophysical and geological explorations and development geophysical activities that you may conduct for lease or unit purposes after your DPP or DOCD is approved.

§ 250.245 What hydrogen sulfide (H2S) information must accompany the DPP or DOCD?

The following H2S information, as applicable, must accompany your DPP or DOCD:

(a) Concentration. The estimated concentration of any H2S you might encounter or handle while you conduct your proposed development and production activities.

(b) Classification. Pursuant to § 250.417(c), a request that the Regional Supervisor classify the area of your proposed development and production activities as either H2S absent, H2S present, or H2S unknown. Provide sufficient information to justify your request.

(c) H2S Contingency Plan. If you request that the Regional Supervisor classify the area of your proposed activities as either H2S present or H2S unknown, an H2S Contingency Plan prepared pursuant to § 250.417(f) or a reference to an approved or submitted H2S Contingency Plan that covers the proposed development and production activities.

(d) Modeling report. (1) If you have determined or estimated that the concentration of any H2S you may encounter or handle while you conduct your development and production activities will be greater than 500 parts per million (ppm), you must:

(i) Model a potential worst case H2S release from the facilities you will use to conduct your proposed development and production activities; and

(ii) Include a modeling report, or the modeling results, or a reference to such report or results if you have already submitted it to the Regional Supervisor.

(2) The analysis in the modeling report must be specific to the particular site of your development and production activities and must consider any nearby human-occupied OCS facilities, shipping lanes, fishery areas, and other points where humans may be subject to potential exposure from an H2S release from your proposed activities.

(3) If any H2S emissions are projected to affect an onshore area, the modeling analysis must be consistent with the Environmental Protection Agency's (EPA) risk management plan methodologies outlined in 40 CFR part 68.

§ 250.246 What mineral resource conservation information must accompany the DPP or DOCD?

The following mineral resource conservation information, as applicable, must accompany your DPP or DOCD:

(a) Technology and reservoir engineering practices and procedures. A description of the technology and reservoir engineering practices and procedures you may use to increase the ultimate recovery of oil and gas (e.g., secondary, tertiary, or other enhanced recovery practices).

(b) Technology and recovery practices and procedures. A description of the technology and recovery practices and procedures you may use to ensure optimum recovery of oil and gas and/or sulphur.

(c) Reservoir development. A discussion of exploratory well results, other reservoir data, proposed well spacing, completion methods, and other relevant well plan information.

§ 250.247 What biological, physical, and socioeconomic information must accompany the DPP or DOCD?

In developing your DPP or DOCD, if you obtain the following information, you must include a report, or the information obtained, or a reference to such a report or information if you have already submitted it to the Regional Supervisor, as accompanying information:

(a) Biological environment reports. Site-specific information on chemosynthetic communities, sensitive underwater features, marine sanctuaries, or other areas of biological concern.

(b) Physical environment reports. Site-specific meteorological, physical oceanographic, geotechnical, or archaeological information.

(c) Socioeconomic study reports. Socioeconomic information regarding your proposed development and production activities.

§ 250.248 What solid and liquid wastes and discharges information and cooling water intake information must accompany the DPP or DOCD?

The following solid and liquid wastes and discharges information and cooling water intake information must accompany your DPP or DOCD:

(a) Projected wastes. A table providing the name, brief description, projected quantity (annual or monthly), and composition of solid and liquid wastes (such as spent drilling fluids, drill cuttings, trash, sanitary and domestic wastes, produced waters, and chemical product wastes) likely to be generated by your proposed development and production activities. Describe:

(1) The methods you used for determining this information; and

(2) Your plans for treating, storing, and downhole disposal of these wastes at your facility location(s).

(b) Projected ocean discharges. If any of your solid and liquid wastes will be discharged overboard or are planned discharges from manmade islands:

(1) A table showing the name, projected amount, and rate of discharge for each waste type; and

(2) A description of the discharge method you will use.

(c) National Pollutant Discharge Elimination System (NPDES) permit.

(1) A discussion of how you will comply with the provisions of the applicable general NPDES permit that covers your proposed development and production activities; or

(2) A copy of your application for an individual NPDES permit. Briefly describe the major discharges and methods you will use for compliance.

(d) Modeling report. In developing your DPP or DOCD, if you model the discharges of your projected solid or liquid wastes, a modeling report, or the modeling results, or a reference to such report or results if you have already submitted it to the Regional Supervisor.

(e) Projected cooling water intake. A table for each cooling water intake structure likely to be used by your proposed development and production activities that includes a brief description of the cooling water intake structure, daily water intake rate, water intake through-screen velocity, percentage of water intake used for cooling water, mitigation measures for reducing impingement and entrainment of aquatic organisms, and biofouling prevention measures.

§ 250.249 What air emissions information must accompany the DPP or DOCD?

The following air emissions information, as applicable, must accompany your DPP or DOCD:

(a) Projected emissions. Tables showing the projected emissions of sulphur dioxide (SO2), particulate matter in the form of PM10 and PM2.5 when applicable, nitrogen oxides (NOX), carbon monoxide (CO), and volatile organic compounds (VOC) that will be generated by your proposed development and production activities.

(1) For each source on or associated with the facility you will use to conduct your proposed development and production activities, you must list:

(i) The projected peak hourly emissions;

(ii) The total annual emissions in tons per year;

(iii) Emissions over the duration of the proposed development and production activities;

(iv) The frequency and duration of emissions; and

(v) The total of all emissions listed in paragraph (a)(1)(i) through (iv) of this section.

(2) For a facility modification, you must show the revised emission rates for each source as well as the incremental change for each source.

(3) You must provide the basis for all calculations including engine size and rating and applicable operational information.

(4) You must base the projected emissions on the maximum rated capacity of the equipment and the maximum throughput of the facility you will use to conduct your proposed development and production activities under its physical and operational design.

(5) If the specific drilling unit has not yet been determined, you must use the maximum emission estimates for the type of drilling unit you will use.

(b) Emission reduction measures. A description of any proposed emission reduction measures, including the affected source(s), the emission reduction control technologies or procedures, the quantity of reductions to be achieved, and any monitoring system you propose to use to measure emissions.

(c) Processes, equipment, fuels, and combustibles. A description of processes, processing equipment, combustion equipment, fuels, and storage units. You must include the frequency, duration, and maximum burn rate of any flaring activity.

(d) Distance to shore. Identification of the distance of the site of your proposed development and production activities from the mean high-water mark (mean higher high-water mark on the Pacific coast) of the adjacent State.

(e) Non-exempt facilities. A description of how you will comply with § 250.303 when the projected emissions of SO2, PM, NOX, CO, or VOC that will be generated by your proposed development and production activities are greater than the respective emission exemption amounts “E” calculated using the formulas in § 250.303(d). When MMS requires air quality modeling, you must use the guidelines in Appendix W of 40 CFR part 51 with a model approved by the Director. Submit the best available meteorological information and data consistent with the model(s) used.

(f) Modeling report. In developing your DPP or DOCD, if you are required by § 250.303 to use an approved air quality model to model projected air emissions, a modeling report, or the modeling results, or a reference to such report or results if you have already submitted it to the Regional Supervisor.

§ 250.250 What oil and hazardous substance spills information must accompany the DPP or DOCD?

The following information regarding potential spills of oil (see definition under 30 CFR 254.6) and hazardous substances (see definition under 40 CFR part 116), as applicable, must accompany your DPP or DOCD:

(a) Oil spill response planning. The material required under either paragraph (a)(1) or (a)(2) of this section:

(1) An Oil Spill Response Plan (OSRP) for the facilities you will use to conduct your proposed development and production activities prepared according to the requirements of 30 CFR part 254, subpart B; or

(2) Reference to your approved regional OSRP (see 30 CFR 254.3) to include:

(i) A discussion of your regional OSRP;

(ii) The location of your primary oil spill equipment base and staging area;

(iii) The name(s) of your oil spill removal organization(s) for both equipment and personnel;

(iv) The calculated volume of your worst case discharge scenario (see 30 CFR 254.26(a)), and a comparison of the appropriate worst case discharge scenario in your approved regional OSRP with the worst case discharge scenario that could result from your proposed development and production activities; and

(v) A description of the worst case oil spill scenario that could result from your proposed development and production activities (see 30 CFR 254.26(b), (c), (d), and (e)).

(b) Modeling report. In developing your DPP or DOCD, if you model a potential oil or hazardous substance spill, a modeling report, or the modeling results, or a reference to such report or results if you have already submitted it to the Regional Supervisor.

§ 250.251 If I propose activities in the Alaska OCS Region, what planning information must accompany the DPP?

If you propose development and production activities in the Alaska OCS Region, the following planning information must accompany your DPP:

(a) Emergency plans. A description of your emergency plans to respond to a blowout, loss or disablement of a drilling unit, and loss of or damage to support craft; and

(b) Critical operations and curtailment procedures. Critical operations and curtailment procedures for your development and production activities. The procedures must identify ice conditions, weather, and other constraints under which the development and production activities will either be curtailed or not proceed.

§ 250.252 What environmental monitoring information must accompany the DPP or DOCD?

The following environmental monitoring information, as applicable, must accompany your DPP or DOCD:

(a) Monitoring systems. A description of any existing and planned monitoring systems that are measuring or will measure environmental conditions and/or will provide project-specific data or information on the impacts of your development and production activities.

(b) Flower Garden Banks National Marine Sanctuary. If you propose to conduct development and production activities within the 4-mile protective zone of the Flower Garden Banks National Marine Sanctuary, a description of your provisions for monitoring the impacts of an oil spill.

§ 250.253 What lease stipulations information must accompany the DPP or DOCD?

A description of the measures you took, or will take, to satisfy the conditions of lease stipulations related to your proposed development and production activities must accompany your DPP or DOCD.

§ 250.254 What mitigation measures information must accompany the DPP or DOCD?

A description of any measures you will use, beyond those required by the regulations in this part, to minimize or mitigate environmental impacts from your proposed development and production activities must accompany your DPP or DOCD.

§ 250.255 What decommissioning information must accompany the DPP or DOCD?

A brief description of how you intend to decommission your wells, platforms, pipelines, and other facilities, and clear your site(s) must accompany your DPP or DOCD.

§ 250.256 What related facilities and operations information must accompany the DPP or DOCD?

The following information regarding facilities and operations directly related to your proposed development and production activities must accompany your DPP or DOCD:

(a) OCS facilities and operations. A description and location of any of the following that directly relate to your proposed development and production activities:

(1) Drilling units;

(2) Production platforms;

(3) Right-of-way pipelines (including those that transport chemical products and produced water); and

(4) Other facilities and operations located on the OCS (regardless of ownership).

(b) Transportation system. A discussion of the transportation system that you will use to transport your production to shore, including:

(1) Routes of any new pipelines;

(2) Information concerning barges and shuttle tankers (including the storage capacity of the transport vessel(s) and the number of transfers that will take place per year);

(3) Information concerning any intermediate storage or processing facilities;

(4) An estimate of the quantities of oil, gas, and/or sulphur to be transported from your production facilities; and

(5) A description and location of the primary onshore terminal.

§ 250.257 What information on the support vessels, offshore vehicles, and aircraft you will use must accompany the DPP or DOCD?

The following information on the support vessels, offshore vehicles, and aircraft you will use must accompany your DPP or DOCD:

(a) General. A description of the crew boats, supply boats, anchor handling vessels, tug boats, barges, ice management vessels, other vessels, offshore vehicles, and aircraft you will use to support your development and production activities. The description of vessels and offshore vehicles must estimate the storage capacity of their fuel tanks and the frequency of their visits to the facilities you will use to conduct your proposed development and production activities.

(b) Air emissions. A table showing the source, composition, frequency, and duration of the air emissions likely to be generated by the support vessels, offshore vehicles, and aircraft you will use that will operate within 25 miles of the facilities you will use to conduct your proposed development and production activities.

(c) Drilling fluids and chemical products transportation. A description of the transportation method and quantities of drilling fluids and chemical products (see § 250.243(b) and (d)) you will transport from the onshore support facilities you will use to the facilities you will use to conduct your proposed development and production activities.

(d) Solid and liquid wastes transportation. A description of the transportation method; reason for transportation; and a brief description of the composition, quantities, and destination(s) of solid and liquid wastes (see § 250.248(a)) you will transport from the facilities you will use to conduct your proposed development and production activities.

(e) Vicinity map. A map showing the location of your proposed development and production activities relative to the shoreline. The map must depict the route(s) the support vessels and aircraft will use when traveling between the onshore support facilities you will use and the facilities you will use to conduct your proposed development and production activities.

§ 250.258 What information on the onshore support facilities you will use must accompany the DPP or DOCD?

The following information on the onshore support facilities you will use must accompany your DPP or DOCD:

(a) General. A description of the onshore facilities you will use to provide supply and service support for your proposed development and production activities (e.g., service bases, pipeline terminals, and mud company docks).

(1) Indicate whether the onshore support facilities are existing, to be constructed, or to be expanded; and

(2) For DPPs only, provide a timetable for acquiring lands (including rights-of-way and easements) and constructing or expanding any of the onshore support facilities.

(b) Air emissions. A description of the source, composition, frequency, and duration of the air emissions (attributable to your proposed development and production activities) likely to be generated by the onshore support facilities you will use.

(c) Unusual solid and liquid wastes. A description of the quantity, composition, and method of disposal of any unusual solid and liquid wastes (attributable to your proposed development and production activities) likely to be generated by the onshore support facilities you will use.

(d) Waste disposal. A description of the onshore facilities you will use to store and dispose of solid and liquid wastes generated by your proposed development and production activities (see § 250.248) and the types and quantities of such wastes.

§ 250.259 What sulphur operations information must accompany the DPP or DOCD?

If you are proposing to conduct sulphur development and production activities, the following information must accompany your DPP or DOCD:

(a) Bleedwater. A discussion of the bleedwater that will be generated by your proposed sulphur activities, including the measures you will take to mitigate the potential toxic or thermal impacts on the environment caused by the discharge of bleedwater.

(b) Subsidence. An estimate of the degree of subsidence expected at various stages of your sulphur development and production activities and a description of the measures you will take to mitigate the effects of subsidence on existing or potential oil and gas production, production platforms, and production facilities, and to protect the environment.

§ 250.260 What Coastal Zone Management Act (CZMA) certification must accompany the DPP or DOCD?

Your DPP or DOCD must be accompanied by a copy of your consistency certification under § 307(c)(3)(B) of the CZMA (16 U.S.C. 1456(c)(3)(B)) and 15 CFR 930.76(d), that states that each of the proposed development and production activities described in detail in this DPP or DOCD comply with (name of State(s)) approved coastal management program(s) and will be conducted in a manner that is consistent with such program(s).

§ 250.261 What environmental impact analysis (EIA) information must accompany the DPP or DOCD?

The following EIA information must accompany your DPP or DOCD:

(a) General requirements. Your EIA must:

(1) Assess the potential environmental impacts of your proposed development and production activities;

(2) Be project specific; and

(3) Be as detailed as necessary to assist the Regional Supervisor in complying with the National Environmental Policy Act (NEPA) of 1969 (42 U.S.C. 4321 et seq.) and other relevant Federal laws.

(b) Resources, conditions, and activities. Your EIA must describe those resources, conditions, and activities listed below that could be affected by your proposed development and production activities or that could affect the construction and operation of facilities or structures or the activities proposed in your DPP or DOCD.

(1) Meteorology, oceanography, geology, and geological and/or manmade hazards;

(2) Air and water quality;

(3) Benthic communities, marine mammals, sea turtles, coastal and marine birds, fish and shellfish, and plant life;

(4) Threatened or endangered species and their critical habitat;

(5) Sensitive biological resources or habitats such as essential fish habitat, refuges, preserves, special management areas identified in coastal management programs, sanctuaries, rookeries, and calving grounds;

(6) Archaeological resources;

(7) Socioeconomic resources (including the approximate number, timing, and duration of employment of persons engaged in onshore support and construction activities), population (including the approximate number of people and families added to local onshore areas), existing offshore and onshore infrastructure (including major sources of supplies, services, energy, and water), types of contractors or vendors that may place a demand on local goods and services, land use, subsistence resources and harvest practices, recreation, recreational and commercial fishing (including seasons, location, and type), minority and lower income groups, and coastal zone management programs;

(8) Coastal and marine uses such as military activities, shipping, and mineral exploration or development; and

(9) Other resources, conditions, and activities identified by the Regional Supervisor.

(c) Environmental impacts. Your EIA must:

(1) Analyze the potential direct and indirect impacts (including those from accidents and cooling water intake structures) that your proposed development and production activities will have on the identified resources, conditions, and activities;

(2) Analyze any potential cumulative impacts from other activities to those identified resources, conditions, and activities potentially impacted by your proposed development and production activities;

(3) Describe the type, severity, and duration of these potential impacts and their biological, physical, and other consequences and implications;

(4) Describe potential measures to minimize or mitigate these potential impacts;

(5) Describe any alternatives to your proposed development and production activities that you considered while developing your DPP or DOCD and compare the potential environmental impacts; and

(6) Summarize the information you incorporate by reference.

(d) Consultation. Your EIA must include a list of agencies and persons you consulted, or you will be consulting, regarding potential impacts associated with your proposed development and production activities.

(e) References cited. Your EIA must include a list of the references that you cite in the EIA.

§ 250.262 What administrative information must accompany the DPP or DOCD?

The following administrative information must accompany your DPP or DOCD:

(a) Exempted information description (public information copies only). A description of the general subject matter of the proprietary information that is included in the proprietary copies of your DPP or DOCD or its accompanying information.

(b) Bibliography. (1) A list of each previously submitted EP, DPP, DOCD, study report, survey report, or other material that you reference in your DPP or DOCD or its accompanying information.

(2) The location(s) where the Regional Supervisor can inspect the cited referenced material if you have not submitted it.

Review and Decision Process for the DPP or DOCD

§ 250.266 After receiving the DPP or DOCD, what will MMS do?

(a) Determine whether deemed submitted. Within 25 working days after receiving your proposed DPP or DOCD and its accompanying information, the Regional Supervisor will deem your DPP or DOCD submitted if:

(1) The submitted information, including the information that must accompany the DPP or DOCD (refer to list in § 250.242), fulfills requirements and is sufficiently accurate;

(2) You have provided all needed additional information (see § 250.201(b)); and

(3) You have provided the required number of copies (see § 250.206(a)).

(b) Identify problems and deficiencies. If the Regional Supervisor determines that you have not met each of the conditions in paragraph (a) of this section, the Regional Supervisor will notify you of the problem or deficiency. The Regional Supervisor will not deem your DPP or DOCD submitted until you have corrected any problem or deficiency identified in the notice.

§ 250.267 What actions will be taken after the DPP or DOCD is deemed submitted?

(a) State, local government, CZM consistency, and other reviews. Within 10 working days after the Regional Supervisor deems your DPP or DOCD submitted under § 250.266(a), the Regional Supervisor will send by receipted mail a public information copy of the DPP or DOCD and its accompanying information to the following:

(1) The Governor of each affected State. The Governor has 60 calendar days after receiving your deemed-submitted DPP or DOCD to submit comments and recommendations. The Regional Supervisor will consider comments and recommendations received by the deadline.

(2) The executive of any affected local government who requests a copy. The executive of any affected local government has 60 calendar days after receipt of your deemed-submitted DPP or DOCD to submit comments and recommendations. The Regional Supervisor will only consider comments and recommendations received by the deadline. The executive of any affected local government must forward all comments and recommendations to the respective Governor before submitting them to the Regional Supervisor.

(3) The CZM agency of each affected State. The CZMA consistency review period under § 307(c)(3)(B)(ii) of the CZMA (16 U.S.C. 1456(c)(3)(B)(ii)) and 15 CFR 930.78 begins when the State's CZM agency receives a copy of your deemed-submitted DPP or DOCD, consistency certification, and required necessary data/information (see 15 CFR 930.77(a)(1)).

(b) General public. Within 10 working days after the Regional Supervisor deems your DPP or DOCD submitted under § 250.266(a), the Regional Supervisor will make a public information copy of the DPP or DOCD and its accompanying information available for review to any appropriate interstate regional entity and the public at the appropriate MMS Regional Public Information Office. Any interested Federal agency or person may submit comments and recommendations to the Regional Supervisor. Comments and recommendations must be received by the Regional Supervisor within 60 calendar days after the DPP or DOCD and its accompanying information is made available.

(c) MMS compliance review. The Regional Supervisor will review the development and production activities in your proposed DPP or DOCD to ensure that they conform to the performance standards in § 250.202.

(d) Amendments. During the review of your proposed DPP or DOCD, the Regional Supervisor may require you, or you may elect, to change your DPP or DOCD.

§ 250.268 How does MMS respond to recommendations?

(a) Governor. The Regional Supervisor will accept those recommendations from the Governor that provide a reasonable balance between the national interest and the well-being of the citizens of each affected State. The Regional Supervisor will explain in writing to the Governor the reasons for rejecting any of his or her recommendations.

(b) Local governments and the public. The Regional Supervisor may accept recommendations from the executive of any affected local government or the public.

(c) Availability. The Regional Supervisor will make all comments and recommendations available to the public upon request.

§ 250.269 How will MMS evaluate the environmental impacts of the DPP or DOCD?

The Regional Supervisor will evaluate the environmental impacts of the activities described in your proposed DPP or DOCD and prepare environmental documentation under NEPA (42 U.S.C.4321 et seq.) and the implementing regulations (40 CFR parts 1500 through 1508).

(a) Environmental impact statement (EIS) declaration. At least once in each OCS planning area (other than the Western and Central GOM Planning Areas), the Director will declare that the approval of a proposed DPP is a major Federal action, and MMS will prepare an EIS.

(b) Leases or units in the vicinity. Before or immediately after the Director determines that preparation of an EIS is required, the Regional Supervisor may require lessees and operators of leases or units in the vicinity of the proposed development and production activities for which DPPs have not been approved to submit information about preliminary plans for their leases or units.

(c) Draft EIS. The Regional Supervisor will send copies of the draft EIS to the Governor of each affected State and to the executive of each affected local government who requests a copy. Additionally, when MMS prepares a DPP EIS and when an affected State's Federally-approved coastal zone management program requires a DPP NEPA document for use in determining consistency, the Regional Supervisor will forward a copy of the draft EIS to the State's CZM agency. The Regional Supervisor will also make copies of the draft EIS available to any appropriate Federal agency, interstate regional entity, and the public.

§ 250.270 What decisions will MMS make on the DPP or DOCD and within what timeframe?

(a) Timeframe. The Regional Supervisor will act on your deemed-submitted DPP or DOCD as follows:

(1) The Regional Supervisor will make a decision within 60 calendar days after the close of the comment period provided in § 267(a)(1), (a)(2), and (b); or the release or adoption of the final EIS for a DPP; or the receipt date of the last amendment to your proposed DOCD, whichever occurs later.

(2) Notwithstanding paragraph (a)(1) of this section, MMS will not approve your DPP or DOCD until either:

(i) All affected States with approved CZM programs concur, or have been conclusively presumed to concur, with your DPP or DOCD consistency certification under § 307(c)(3)(B)(i) and (ii) of the CZMA (16 U.S.C. 1456 (c)(3)(B)(i) and (ii)); or

(ii) The Secretary of Commerce has made a finding authorized by § 307(c)(3)(B)(iii) of the CZMA (16 U.S.C. 1456(c)(3)(B)(iii) (see § 250.274(b)(1)).

(b) MMS decision. By the deadline in paragraph (a) of this section, the Regional Supervisor will take one of the following actions:

The Regional Supervisor will— | if— | And then—
(1) Approve your DPP or DOCD | it complies with all applicable requirements | The Regional Supervisor will notify you in writing of the decision and may require you to meet certain conditions, including those to provide monitoring information.
(2) Require you to modify your proposed DPP or DOCD | it fails to make adequate provisions for safety, environmental protection, or conservation of natural resources or otherwise does not comply with the lease, the Act, or the regulations prescribed under the Act or other Federal laws | The Regional Supervisor will notify you in writing of the decision and describe the modifications you must make to your proposed DPP or DOCD to ensure it complies with all applicable requirements.
(3) Disapprove your DPP or DOCD | (i) Any of the reasons in § 250.271 apply | (A) The Regional Supervisor will notify you in writing of the decision and describe the reason(s) for disapproving your DPP or DOCD; and (B) MMS may cancel your lease and compensate you pursuant to 43 U.S.C. 1351(h) and the implementing regulations in §§ 250.183, 250.184, 250.185, and 30 CFR 256.77.

§ 250.271 For what reasons will MMS disapprove the DPP or DOCD?

The Regional Supervisor will disapprove your proposed DPP or DOCD if one of the four reasons in this section applies.

(a) Non-compliance. The Regional Supervisor determines that you have failed to demonstrate that you can comply with the requirements of the Act, implementing regulations, or other applicable Federal laws.

(b) No consistency concurrence.

(1) An affected State has delayed issuing a final decision on your coastal zone consistency certification (see 15 CFR 930.78(a)); or

(2) An affected State objects to your coastal zone consistency certification and the Secretary of Commerce, under § 307(c)(3)(B)(iii) of the CZMA (16 U.S.C. 1456(c)(3)(B)(iii)), does not find that each activity described in the DPP or DOCD is consistent with the objectives of the CZMA or is otherwise necessary in the interest of national security.

(3) If the Regional Supervisor disapproved your DPP or DOCD for the sole reason that an affected State either has delayed issuing a final decision on or objected to your coastal zone consistency certification (see paragraphs (b)(1) and (2) in this section), the Regional Supervisor will approve your DPP or DOCD upon receipt of concurrence, at the time concurrence is presumed, or when the Secretary of Commerce makes a finding authorized by § 307(c)(3)(B)(iii) of the CZMA (16 U.S.C. 1456(c)(3)(B)(iii)). In that event, you do not need to resubmit your DPP or DOCD for approval under § 250.273(b).

(c) National security or defense conflicts. Your proposed activities would threaten national security or defense.

(d) Exceptional circumstances. The Regional Supervisor determines because of exceptional geological conditions, exceptional resource values in the marine or coastal environment, or other exceptional circumstances, that all of the following apply:

(1) Implementing your DPP or DOCD would cause serious harm or damage to life (including fish and other aquatic life), property, any mineral deposits (in areas leased or not leased), the national security or defense, or to the marine, coastal, or human environment;

(2) The threat of harm or damage will not disappear or decrease to an acceptable extent within a reasonable period of time; and

(3) The advantages of disapproving your DPP or DOCD outweigh the advantages of development and production.

§ 250.272 If a State objects to the DPP's or DOCD's coastal zone consistency certification, what can I do?

If an affected State objects to the coastal zone consistency certification accompanying your proposed or disapproved DPP or DOCD, you may do one of the following:

(a) Amend or resubmit your DPP or DOCD. Amend or resubmit your DPP or DOCD to accommodate the State's objection and submit the amendment or resubmittal to the Regional Supervisor for approval. The amendment or resubmittal needs only address information related to the State's objections.

(b) Appeal. Appeal the State's objection to the Secretary of Commerce using the procedures in 15 CFR part 930, subpart H. The Secretary of Commerce will either:

(1) Grant your appeal by finding under § 307(c)(3)(B)(iii) of the CZMA (16 U.S.C. 1456(c)(3)(B)(iii)) that each activity described in detail in your DPP or DOCD is consistent with the objectives of the CZMA or is otherwise necessary in the interest of national security; or

(2) Deny your appeal, in which case you may amend or resubmit your DPP or DOCD, as described in paragraph (a) of this section.

(c) Withdraw your DPP or DOCD. Withdraw your DPP or DOCD if you decide not to conduct your proposed development and production activities.

§ 250.273 How do I submit a modified DPP or DOCD or resubmit a disapproved DPP or DOCD?

(a) Modified DPP or DOCD. If the Regional Supervisor requires you to modify your proposed DPP or DOCD under § 250.270(b)(2), you must submit the modification(s) to the Regional Supervisor in the same manner as for a new DPP or DOCD. You need submit only information related to the proposed modification(s).

(b) Resubmitted DPP or DOCD. You may resubmit your disapproved DPP or DOCD if there is a change in the conditions that were the basis of its disapproval.

§ 250.274 When can I expect a decision from MMS on the modified or resubmitted DPP or DOCD?

The Regional Supervisor will use the performance standards in § 250.202 to either approve, require you to further modify, or disapprove your modified or resubmitted DPP or DOCD. The Regional Supervisor will make a decision within 60 calendar days after the Regional Supervisor deems your modified or resubmitted DPP or DOCD to be submitted or receives the last amendment to your modified or resubmitted DPP or DOCD, whichever occurs later.

Post-Approval Requirements for the EP, DPP, and DOCD

§ 250.280 How must I conduct activities under the approved EP, DPP, or DOCD?

(a) Compliance. You must conduct all of your lease and unit activities according to your approved EP, DPP, or DOCD and any approval conditions. If you fail to comply with your approved EP, DPP, or DOCD:

(1) You may be subject to MMS enforcement action including civil penalty; and

(2) The lease(s) involved in your EP, DPP, or DOCD may be forfeited or cancelled under 43 U.S.C. 1334(c) or (d). If this happens, you will not be entitled to compensation under § 250.185(b) and 30 CFR 256.77.

(b) Emergencies. Nothing in this subpart or in your approved EP, DPP, or DOCD relieves you of or limits your responsibility to take appropriate measures to meet emergency situations. In an emergency situation, the Regional Supervisor may approve or require departures from your approved EP, DPP, or DOCD.

§ 250.281 What must I do to conduct activities under the approved EP, DPP, or DOCD?

(a) Approvals and permits. Before you conduct activities under your approved EP, DPP, or DOCD you must obtain the following approvals and or permits, as applicable, from the District or Regional Supervisor:

(1) Approvals of applications for permits to drill (see § 250.414);

(2) Approvals of production safety systems (see § 250.800);

(3) Approvals of new platforms and other structures (or major modifications to platforms and other structures) (see § 250.901);

(4) Approvals of applications to install lease term pipelines (see § 250.1007); and

(5) Other permits, as required by applicable law.

(b) Conformance. The activities proposed in these applications and permits must conform to the activities described in detail in your approved EP, DPP, or DOCD.

(c) Separate State CZM consistency review. Your APDs and other applications and permits to conduct activities under your approved EP, DPP, or DOCD including those identified in paragraph (a) of this section are not subject to separate State CZM consistency review.

(d) EP approval restrictions. The District Supervisor or Regional Supervisor will not approve any APDs or other applications and permits under your approved EP until either:

(1) All affected States with approved CZM programs concur or are conclusively presumed to concur with your coastal zone consistency certification accompanying your EP under § 307(c)(3)(B)(i) and (ii) of the CZMA (16 U.S.C. 1456(c)(3)(B)(i) and (ii)); or

(2) The Secretary of Commerce finds, under § 307(c)(3)(B)(iii) of the CZMA (16 U.S.C. 1456 (c)(3)(B)(iii)) that each activity covered by the EP is consistent with the objectives of the CZMA or is otherwise necessary in the interest of national security.

(3) If an affected State objects to the coastal zone consistency certification accompanying your approved EP, you may revise your EP to accommodate the State's objection and submit the revision to the Regional Supervisor for approval.

§ 250.282 Do I have to conduct post-approval monitoring?

After approving your EP, DPP, or DOCD, the Regional Supervisor may direct you to conduct monitoring programs. You must retain copies of all monitoring data obtained or derived from your monitoring programs and make them available to MMS upon request. The Regional Supervisor may require you to:

(a) Submit monitoring plans for approval before you begin the work; and

(b) Prepare and submit reports that summarize and analyze data and information obtained or derived from your monitoring programs. The Regional Supervisor will specify requirements for preparing and submitting these reports

§ 250.283 When must I revise or supplement the approved EP, DPP, or DOCD?

(a) Revised OCS plans. You must revise your approved EP, DPP, or DOCD when you propose to:

(1) Change the type of drilling rig, production facility, or transportation mode;

(2) Change the surface location of a well or production platform by a distance more than that specified by the Regional Supervisor;

(3) Change the type of production or significantly increase the volume of production or storage capacity;

(4) Increase the emissions of an air pollutant to an amount that exceeds the amount specified in your approved EP, DPP, or DOCD;

(5) Significantly increase the amount of solid or liquid wastes to be handled or discharged;

(6) Request a new H2S area classification or increase the concentration of H2S to a concentration greater than that specified by the Regional Supervisor;

(7) Change the onshore support base you are using; or

(8) Change any other activity specified by the Regional Supervisor.

(b) Supplemental OCS plans. You must supplement your approved EP, DPP, or DOCD when you propose to conduct activities on your lease(s) or unit that require approval of an application or permit and are not covered by your approved EP, DPP, or DOCD. These types of changes are called supplemental OCS plans.

§ 250.284 How will MMS require revisions to the approved EP, DPP, or DOCD?

(a) Periodic review. The Regional Supervisor will periodically review the activities you conduct under your approved EP, DPP, or DOCD and may require you to submit updated information on your activities. The frequency and extent of this review will be based on the significance of any changes in available information and onshore or offshore conditions affecting or affected by the activities in your approved EP, DPP, or DOCD.

(b) Significant changes in information or conditions. The Regional Supervisor may require you to revise your approved EP, DPP, or DOCD if significant changes in available information or in conditions affecting or affected by the activities being conducted under the EP, DPP, or DOCD have occurred or are occurring.

§ 250.285 How do I submit revised and supplemental EPs, DPPs, and DOCDs?

(a) Submittal. You must submit to the Regional Supervisor any revisions and supplements to approved EPs, DPPs, or DOCDs for approval, whether you initiate them or the Regional Supervisor orders them.

(b) Information. Revised and supplemental EPs, DPPs, and DOCDs need include only information related to or affected by the proposed changes, including information on changes in expected environmental impacts.

(c) Procedures. All supplemental EPs, DPPs, and DOCDs, and those revised EPs, DPPs, and DOCDs that the Regional Supervisor determines are likely to result in a significant change in the impacts previously identified and evaluated, are subject to all of the procedures under § 250.231 through § 250.235 for EPs, and § 250.266 through § 250.274 for DPPs and DOCDs.

Deepwater Operations Plans (DWOP)

§ 250.288 When must I submit a DWOP?

You must submit, and MMS must approve, a DWOP before you conduct any activities associated with a development project that will involve the use of floating production systems or subsea production technology for all water depths.

§ 250.289 Why do I need to submit a DWOP?

A DWOP contains information specific to floating production systems or subsea equipment issues that allows MMS to determine if the project is being developed in an acceptable manner.

§ 250.290 What are the three parts of a DWOP?

You must prepare and submit your DWOP to the Regional Supervisor in three parts: the Conceptual Part, the Preliminary Part, and the Final Part, as required by the following table:

Part | Purpose | Deadline for submission to regional supervisor | Other requirements
(a) Conceptual | Addresses the general design basis and philosophy used to develop the field. Provides an early opportunity for MMS and you to agree on a development plan before you make major expenditures for engineering design. | After you have identified the concept(s) for development and before you start engineering design. | You must prepare a Conceptual Part for all projects requiring a DWOP. (See § 250.291 for detailed content requirements.)
(b) Preliminary | Provides an opportunity for approval of the system and operations plan before you make major commitments and expenditures for hardware. | After you have substantially completed the system design and before you start procurement and fabrication, you may submit the Preliminary Part in several sections to suit the project schedule. | The Regional Supervisor must approve the Preliminary Part before you start production. The Regional Supervisor may waive the requirement for a Preliminary Part for subsea projects in water depths less than 1,312 feet (400 meters) that are similar to projects previously approved. (See § 250.292 for detailed content requirements.)
(c) Final | Updates information previously submitted in the Preliminary or Conceptual Parts. | Within 90 days following initial production. | None. (See § 250.293 for detailed content requirements.)

§ 250.291 What must the Conceptual Part of a DWOP contain?

The Conceptual Part of a DWOP must include the following information:

(a) A location plat;

(b) An overview of the development concept(s); and

(c) Information concerning any temporarily abandoned well(s) that are being completed for production.

§ 250.292 What must the Preliminary Part of a DWOP contain?

The Preliminary Part of a DWOP must include the following:

(a) A description and schematic of the typical wellbore, casing, and completion;

(b) Structural design, fabrication, and installation information for each surface system;

(c) Design, fabrication, and installation information on the mooring systems for each surface system;

(d) Information on any active stationkeeping system(s) involving thrusters or other means of propulsion used with a surface system;

(e) Information concerning the drilling and completion systems;

(f) Design and fabrication information for each riser system (e.g., drilling, workover, production, and injection);

(g) Pipeline information;

(h) Information about the design, fabrication, and operation of an offtake system for transferring produced hydrocarbons to a transport vessel;

(i) Information about subsea wells and associated systems that constitute all or a part of a single project development covered by the DWOP;

(j) A general description of surface production equipment. This may be in the form of a narrative or summary level diagrams. Identify the proposed fabrication, integration, and assembly locations of process equipment;

(k) A description of the surface/subsea safety system and emergency support systems;

(l) A description of the well production allocation test process;

(m) A general description of the operating procedures, including a table summarizing the curtailment of production and offloading based on operational considerations and environmental conditions (winds, waves, and/or currents);

(n) A description of the facility installation and commissioning procedure; and

(o) A summary of the hazard analysis to identify, evaluate, and reduce the likelihood and consequences of uncontrolled hydrocarbon releases and other safety or environmental incidents.

§ 250.293 What must the Final Part of a DWOP contain?

The Final Part of a DWOP must include the following information:

(a) A statement about your adherence to the Preliminary Part of the DWOP;

(b) A listing of any areas where the final configuration or operations differ from that approved under the Preliminary Part, with appropriate supporting documentation;

(c) Where the final configuration or operation impacts areas approved under other submittals (plans, applications, permits, etc.), a discussion and resolution of such issues under the affected submittal; and

(d) For multi-phased development concepts, an update, as applicable, of the status of future phases, and a prognosis for proceeding to the next phase.

§ 250.294 Where do I send the DWOP?

You must submit four copies of a DWOP to the MMS regional office at the applicable address shown in § 250.206(b).

§ 250.295 When will the Regional Supervisor approve or disapprove the DWOP?

The Regional Supervisor will either approve or disapprove a particular part of your DWOP within the following number of days after the Regional Supervisor determines that each part of your DWOP is complete:

(a) Conceptual Part—30 calendar days.

(b) Preliminary Part—90 calendar days.

(c) Final Part—60 calendar days.

Conservation Information Documents (CID)

§ 250.296 When and why must I submit a CID?

(a) You must submit, and the Regional Supervisor must approve, a CID before you conduct any of the following:

(1) Activities associated with a development project that will involve the use of a structure other than a conventional steel-piled jacket platform in water depths greater than 1,312 feet (400 meters); or

(2) Activities associated with a project utilizing subsea production technology at any water depth.

(b) MMS will use the information in the CID to ensure development of economically producible reservoirs according to sound conservation, engineering, and economic practices before you commit or expend substantial funds.

§ 250.297 What information must a CID contain?

A CID must include all of the following information that is available for each penetrated hydrocarbon-bearing reservoir that would qualify a well as capable of producing in paying quantities under § 250.115 or § 250.116:

(a) Estimates of original oil and gas in-place and anticipated recoverable reserves;

(b) Reservoir development strategies or a statement that you do not plan to develop the reservoir;

(c) Project-specific economic justification, including risk assessment, consistent with your internal evaluation if you do not plan to develop the reservoir;

(d) Structure maps, showing the penetration point and subsea depth for each well penetrating the reservoir, fluid contacts or the lowest or highest known levels in the absence of actual contacts, reservoir boundaries, and the scale of the map;

(e) Interpreted structural cross sections and corresponding full-scale interpreted seismic lines or block diagrams, as necessary, that include all current wellbores and planned wellbores on the leases or units to be developed, the reservoir boundaries, gas/oil/water contacts, depth scale, stratigraphic positions, and relative biostratigraphic ages;

(f) Isopach maps of each reservoir showing the net feet of pay for each well within the reservoir identified at the penetration point, along with the well name, labeled contours, and the correct scale of the map;

(g) Appropriate well logs;

(h) Appropriate pressure data, specified by date, and whether estimated or measured; and

(i) Any other appropriate data you used in performing your reservoir evaluations and preparing your reservoir development strategies.

§ 250.298 How do I submit a CID?

You must submit three copies of a CID to MMS's GOM OCS Region, Production and Development, Attention: Chief, Rate Control Section (MS 5330). You are encouraged to submit the CID as early as practical and before you make capital investment decisions that could be affected by MMS conservation decisions.

§ 250.299 What decisions will MMS make on the CID?

The Regional Supervisor will provide a written decision on your CID. MMS may disapprove your CID if we determine that additional wells or alternative development schemes would result in the economic recovery of significant additional volumes of oil and gas reserves.

[FR Doc. 02-11641 Filed 5-16-02; 8:45 am]

BILLING CODE 4310-MR-P